DEPARTMENT OF COMMERCE

National Oceanic and Atmospheric Administration

50 CFR Part 679

[Docket No. 130925836-4174-02]

RIN 0648-XC895

Fisheries of the Exclusive Economic Zone Off Alaska; Gulf of Alaska; Final 2014 and 2015 Harvest Specifications for Groundfish

AGENCY: National Marine Fisheries Service (NMFS), National Oceanic and Atmospheric Administration (NOAA), Commerce.

ACTION: Final rule; harvest specifications and closures.

SUMMARY: NMFS announces final 2014 and 2015 harvest specifications, apportionments, and Pacific halibut prohibited species catch limits for the groundfish fishery of the Gulf of Alaska (GOA). This action is necessary to establish harvest limits for groundfish during the 2014 and 2015 fishing years and to accomplish the goals and objectives of the Fishery Management Plan for Groundfish of the GOA. The intended effect of this action is to conserve and manage the groundfish resources in the GOA in accordance with the Magnuson-Stevens Fishery Conservation and Management Act.

DATES: Harvest specifications and closures effective at 1200 hrs, Alaska local time (A.l.t.), March 6, 2014, through 2400 hrs, A.l.t., December 31, 2015.

ADDRESSES: Electronic copies of the Final Alaska Groundfish Harvest Specifications Environmental Impact Statement (EIS), Record of Decision (ROD), Supplementary Information Report (SIR) to the EIS, and the Final Regulatory Flexibility Analysis (FRFA) prepared for this action are available from http://alaskafisheries.noaa.gov. The final 2013 Stock Assessment and Fishery Evaluation (SAFE) report for the groundfish resources of the GOA, dated November 2013, is available from the North Pacific Fishery Management Council (Council) at 605 West 4th Avenue, Suite 306, Anchorage, AK 99510-2252, phone 907-271-2809, or from the Council's Web site at http://www.npfmc.org.

FOR FURTHER INFORMATION CONTACT: Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801 et seq. Regulations governing U.S. fisheries and implementing the FMP appear at 50 CFR parts 600, 679, and 680.

The FMP and its implementing regulations require NMFS, after consultation with the Council, to specify the total allowable catch (TAC) for each target species, the sum of which must be within the optimum yield (OY) range of 116,000 to 800,000 metric tons (mt). Section 679.20(c)(1) further requires NMFS to publish and solicit public comment on proposed annual TACs, Pacific halibut prohibited species catch (PSC) limits, and seasonal allowances of pollock and Pacific cod. Upon consideration of public comment received under § 679.20(c)(1), NMFS must publish notice of final harvest specifications for up to two fishing years as annual target TAC, per § 679.20(c)(3)(ii). The final harvest specifications set forth in Tables 1 through 36 of this document reflect the outcome of this process, as required at § 679.20(c).

The proposed 2014 and 2015 harvest specifications for groundfish of the GOA and Pacific halibut PSC limits were published in the Federal Register on December 10, 2013 (78 FR 74079). Comments were invited and accepted through January 9, 2014. NMFS did not receive any comments on the proposed harvest specifications. In December 2013, NMFS consulted with the Council regarding the 2014 and 2015 harvest specifications. After considering public testimony, as well as biological and economic data that were available at the Council's December 2013 meeting, NMFS is implementing the final 2014 and 2015 harvest specifications, as recommended by the Council. For 2014, the sum of the TAC amounts is 499,274 mt. For 2015, the sum of the TAC amounts is 511,599 mt.

Other Actions Affecting the 2014 and 2015 Harvest Specifications

Combining Central and Western GOA Other Rockfish Acceptable Biological Catches (ABCs) and TACs

At its November 2013 meeting, the Council's GOA Groundfish Plan Team (Plan Team) recommended combining the Western and Central GOA “other rockfish” ABCs and TACs. The “other rockfish” category in these areas include “other rockfish” (19 species) and demersal shelf rockfish (7 species). The Plan Team recommended combining these ABCs and TACs based on the challenges associated with conducting a comprehensive assessment of all of the species in the “other rockfish” category in the Western and Central GOA. At the December 2013 Council meeting, the Scientific and Statistical Committee (SSC) and Council also recommended combining these ABCs and TACs as recommended by the Plan Team. NMFS does not anticipate any adverse management or conservation effects as a result of combing the Western and Central “other rockfish” ABCs and TACs. Directed fishing for “other rockfish” would continue to be prohibited in the Western and Central GOA.

Amendment 97: Chinook Salmon Prohibited Species Catch Limits in the Non-Pollock Trawl Groundfish Fisheries

In June 2013, the Council took action to recommend Amendment 97 to the FMP, as well as accompanying regulations. If approved by the Secretary of Commerce (Secretary), Amendment 97 would implement measures to control Chinook salmon PSC in all non-pollock trawl groundfish fisheries in the Western and Central GOA. The pollock directed fishery is not included in the Council's recommended action, as that fishery is already subject to Chinook PSC limits (§ 679.21(h)). The Council's preferred alternative would set an initial annual limit of 7,500 Chinook salmon apportioned among the sectors of catcher/processors, catcher vessels active in the Rockfish Program, and non-Rockfish Program catcher vessels. A sector would be prohibited from directed fishing for groundfish if it caught its apportioned amount of the total Chinook PSC limit. NMFS currently is developing proposed rulemaking for this Chinook PSC action. If approved by the Secretary, the earliest these Chinook salmon PSC limits could be implemented would be 2015.

Increase to the Western GOA Guideline Harvest Level (GHL) for Pacific Cod

The State of Alaska (State) manages separate Pacific cod fisheries in the GOA. The State's GHL fisheries are conducted independently of the Federal groundfish fisheries under direct regulation of the State. GHLs are derived from the Pacific cod ABC for each GOA management area, and the TAC for each area is the amount available after the annual GHL percentage has been deducted from the ABC. In October 2013, the Alaska Board of Fisheries, a regulatory body for the State's Department of Fish and Game, reviewed various proposals to increase the GHL for the State's Pacific cod GHL fisheries. The Board of Fisheries adopted a proposal to increase the GHL in the South Alaska Peninsula area to 30 percent from 25 percent of the annual Pacific cod ABC. This decreases the final Western GOA Pacific cod TAC for 2014, reducing it to 22,922 mt from 24,559 mt.

Acceptable Biological Catch (ABC) and TAC Specifications

In December 2013, the Council, its Advisory Panel (AP), and its SSC reviewed the most recent biological and harvest information about the condition of groundfish stocks in the GOA. This information was compiled by the Council's GOA Groundfish Plan Team and was presented in the draft 2013 SAFE report for the GOA groundfish fisheries, dated November 2013 (see ADDRESSES). The SAFE report contains a review of the latest scientific analyses and estimates of each species' biomass and other biological parameters, as well as summaries of the available information on the GOA ecosystem and the economic condition of the groundfish fisheries off Alaska. From these data and analyses, the Plan Team estimates an overfishing level (OFL) and ABC for each species or species group. The 2013 SAFE report was made available for public review during the public comment period for the proposed harvest specifications.

In previous years, the largest changes from the proposed to the final harvest specifications have been based on recent NMFS stock surveys, which provide updated estimates of stock biomass and spatial distribution, and changes to the models used for producing stock assessments. At the November 2013 Plan Team meeting, NMFS scientists presented updated and new survey results, changes to stock assessment models, and accompanying stock assessment estimates for all groundfish species and species groups that are included in the final 2013 SAFE report. The SSC reviewed this information at the December 2013 Council meeting. Changes from the proposed to the final harvest specifications in 2014 and 2015 for newly assessed groundfish stocks are discussed below.

The final 2014 and 2015 OFLs, ABCs, and TACs are based on the best available biological and socioeconomic information, including projected biomass trends, information on assumed distribution of stock biomass, and revised methods used to calculate stock biomass. The FMP specifies the formulas, or tiers, to be used to compute OFLs and ABCs. The formulas applicable to a particular stock or stock complex are determined by the level of reliable information available to fisheries scientists. This information is categorized into a successive series of six tiers to define OFL and ABC amounts, with Tier 1 representing the highest level of information quality available and Tier 6 representing the lowest level of information quality available. The Plan Team used the FMP tier structure to calculate OFL and ABC amounts for each groundfish species. The SSC adopted the final 2014 and 2015 OFLs and ABCs recommended by the Plan Team for all groundfish species. The Council adopted the SSC's OFL and ABC recommendations and the AP's TAC recommendations. The final TAC recommendations were based on the ABCs as adjusted for other biological and socioeconomic considerations, including maintaining the sum of all TACs within the required OY range of 116,000 to 800,000 mt.

The Council recommended 2014 and 2015 TACs that are equal to ABCs for pollock, sablefish, deep-water flatfish, rex sole, Pacific ocean perch, northern rockfish, shortraker rockfish, dusky rockfish, rougheye rockfish, demersal shelf rockfish, thornyhead rockfish, “other rockfish,” big skates, longnose skates, other skates, sculpins, sharks, squids, and octopuses in the GOA. The Council recommended TACs for 2014 and 2015 that are less than the ABCs for Pacific cod, shallow-water flatfish in the Western GOA, arrowtooth flounder, flathead sole in the Western and Central GOA, “other rockfish” in the Southeast Outside district, and Atka mackerel. The Pacific cod TACs are set to accommodate the State's GHLs for Pacific cod so that the ABCs are not exceeded. The shallow-water flatfish, arrowtooth flounder, and flathead sole TACs are set to allow for increased harvest opportunities for these target species while conserving the halibut PSC limit for use in other, more fully utilized fisheries. The “other rockfish” TAC in the Southeast Outside District (SEO) is set to reduce the amount of discards. The Atka mackerel TAC is set to accommodate incidental catch amounts in other fisheries.

The final 2014 and 2015 harvest specifications approved by the Secretary are unchanged from those recommended by the Council and are consistent with the preferred harvest strategy alternative in the EIS (see ADDRESSES). NMFS finds that the Council's recommended OFLs, ABCs, and TACs are consistent with the biological condition of the groundfish stocks as described in the final 2013 SAFE report. NMFS also finds that the Council's recommendations for OFLs, ABCs, and TACs are consistent with the biological condition of groundfish stocks as adjusted for other biological and socioeconomic considerations, including maintaining the total TAC within the OY range. NMFS reviewed the Council's recommended TAC specifications and apportionments, and approves these harvest specifications under 50 CFR 679.20(c)(3)(ii). The apportionment of TAC amounts among gear types and sectors, processing sectors, and seasons is discussed below.

Tables 1 and 2 list the final 2014 and 2015 OFLs, ABCs, TACs, and area apportionments of groundfish in the GOA. The sums of the 2014 and 2015 ABCs are 640,675 mt and 644,165 mt, respectively, which are higher in 2014 and 2015 than the 2013 ABC sum of 595,920 mt (78 FR 13162, February 26, 2013).

Specification and Apportionment of TAC Amounts

The ABC for the pollock stock in the combined Western, Central, and West Yakutat Regulatory Areas (W/C/WYK) has been adjusted to reflect the GHL established by the State for the Prince William Sound (PWS) pollock fishery since its inception in 1995. Based on genetic studies, fisheries scientists believe that the pollock in PWS is not a separate stock from the combined W/C/WYK population. Since 1996, the Plan Team has had a protocol of recommending that the GHL amount be deducted from the GOA-wide ABC. Accordingly, the Council recommended decreasing the W/C/WYK pollock ABC to account for the State's PWS GHL. At the November 2013 Plan Team meeting, State fisheries managers recommended setting the PWS GHL at 2.5 percent of the annual W/C/WYK pollock ABC. For 2014, this yields a PWS pollock GHL of 4,163 mt, an increase of 1,336 mt from the 2013 PWS GHL of 2,827 mt. For 2015, the PWS pollock GHL is 4,646 mt, an increase of 1,819 mt from the 2013 PWS pollock GHL.

NMFS' apportionment of groundfish species is based on the distribution of biomass among the regulatory areas over which NMFS manages the species. Additional regulations govern the apportionment of Pacific cod, pollock, and sablefish. Additional detail on the apportionment of Pacific cod, pollock, and sablefish are described below, and briefly summarized here.

The AP, SSC and Council recommended apportionment of the ABC for Pacific cod in the GOA among regulatory areas based on the three most recent NMFS summer trawl surveys. The 2014 and 2015 Pacific cod TACs are set to accommodate the State's GHL for Pacific cod in State waters in the Central and Western Regulatory Areas, as well as in PWS. The Plan Team, SSC, AP, and Council recommended that the sum of all State and Federal water Pacific cod removals from the GOA not exceed ABC recommendations. Accordingly, the Council set the 2014 and 2015 Pacific cod TACs in the Eastern, Central, and Western Regulatory Areas to account for State GHLs. Therefore, the 2014 Pacific cod TACs are less than the ABCs by the following amounts: (1) Eastern GOA, 664 mt; (2) Central GOA, 13,275 mt; and (3) Western GOA, 9,824 mt. The 2015 Pacific cod TACs are less than the ABCs by the following amounts: (1) Eastern GOA, 631 mt; (2) Central GOA, 12,615 mt; and (3) Western GOA, 9,335 mt. These amounts reflect the sum of the State's 2014 and 2015 GHLs in these areas, which are 25 percent of the Eastern and Central, and 30 percent of the Western GOA ABCs.

NMFS establishes seasonal apportionments of the annual Pacific cod TAC in the Central and Western Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(12)). The Central and Western GOA Pacific cod TACs are allocated among various gear and operational sectors. The Pacific cod sector apportionments are discussed in detail in a subsequent section of this preamble.

NMFS establishes pollock TACs in the Western, Central, West Yakutat Regulatory Areas, and the Southeast Outside District of the GOA (see Tables 1 and 2). NMFS also establishes seasonal apportionments of the annual pollock TAC in the Western and Central Regulatory Areas of the GOA among Statistical Areas 610, 620, and 630. These apportionments are divided equally among each of the following four seasons: The A season (January 20 through March 10), the B season (March 10 through May 31), the C season (August 25 through October 1), and the D season (October 1 through November 1) (§ 679.23(d)(2)(i) through (iv), and § 679.20(a)(5)(iv)(A) and (B)). Additional detail is provided below; Tables 3 and 4 list these amounts.

The Council's recommendation for sablefish area apportionments takes into account the prohibition on the use of trawl gear in the SEO District of the Eastern Regulatory Area and makes available 5 percent of the combined Eastern Regulatory Area ABCs to trawl gear for use as incidental catch in other groundfish fisheries in the WYK District (§ 679.20(a)(4)(i)). Tables 7 and 8 list the final 2014 and 2015 allocations of sablefish TAC to hook-and-line and trawl gear in the GOA.

At its June 2012 meeting, the Council took final action to reduce halibut PSC limits in the GOA trawl and hook-and-line groundfish fisheries. Amendment 95 to the GOA FMP changed the process for setting halibut PSC limits and established halibut PSC limits in Federal regulation. These PSC limits will remain in effect until changed by a subsequent Council action to amend those regulations. A proposed rule associated with those recommendations was published on September 17, 2013 (78 FR 57106), and the Secretary approved Amendment 95 to the GOA FMP on November 27, 2013. The final rule to implement Amendment 95 was published on February 20, 2014 (79 FR 9625), and contains a comprehensive discussion of the various elements associated with the halibut PSC limit reductions.

Amendment 95 reduced the GOA halibut PSC limit for the groundfish trawl gear sector and groundfish catcher vessel (CV) hook-and-line gear sector by 15 percent. The reductions will be phased in over 3 years: 7 percent in 2014, 5 percent in 2015 (to 12 percent), and 3 percent in 2016 (for a total of 15 percent). The reduction for the catcher/processor (C/P) hook-and-line gear sector is 7 percent, which is implemented in 2014. The Council used 1,973 mt as the baseline for the halibut PSC limit reductions. This is based on a deduction of 27 mt from the 2,000 mt trawl halibut PSC limit, per halibut PSC limit reductions made in conjunction with the implementation of the Central Gulf of Alaska Rockfish Program in 2011 (76 FR 81248, December 27, 2011). In addition, Amendment 95 reduced the halibut PSC limit for the hook-and-line demersal shelf rockfish fishery in the southeast outside district of the GOA to 9 mt from 10 mt. The Council recommended that the first year of implementation should occur in 2014 and that all reductions should occur by 2016.

Changes From the Proposed 2014 and 2015 Harvest Specifications in the GOA

In October 2013, the Council's recommendations for the proposed 2014 and 2015 harvest specifications (78 FR 74079, December 10, 2013) were based largely on information contained in the final 2012 SAFE report for the GOA groundfish fisheries, dated November 2012 (see ADDRESSES). The Council proposed that the final OFLs, ABCs, and TACs established for the 2014 groundfish fisheries (78 FR 13162, February 26, 2013) be used for the proposed 2014 and 2015 harvest specifications, pending completion and review of the 2013 SAFE report at its December 2013 meeting.

As described previously, the SSC adopted the final 2014 and 2015 OFLs and ABCs recommended by the Plan Team. The Council adopted the SSC's OFL and ABC recommendations and the AP's TAC recommendations for 2014 and 2015. The final 2014 ABCs are higher than the proposed 2014 ABCs published in the proposed 2014 and 2015 harvest specifications (78 FR 74079, December 10, 2013) for pollock, Pacific cod, deep-water flatfish, Pacific ocean perch, northern rockfish, shortraker rockfish, “other rockfish,” dusky rockfish, rougheye rockfish, thornyhead rockfish, longnose skate, and octopuses. The final 2014 ABCs are lower than the proposed 2014 ABCs for sablefish, shallow-water flatfish, rex sole, arrowtooth flounder, flathead sole, demersal shelf rockfish, big skates, other skates, sharks, and sculpins. The final 2015 ABCs are higher than the proposed 2015 ABCs pollock, deep-water flatfish, Pacific ocean perch, northern rockfish, shortraker rockfish, “other rockfish,” dusky rockfish, rougheye rockfish, thornyhead rockfish, longnose skate, and octopuses. The final 2015 ABCs are lower than the proposed 2015 ABCs for Pacific cod, sablefish, shallow-water flatfish, rex sole, arrowtooth flounder, flathead sole, demersal shelf rockfish, big skates, other skates, sharks, and sculpins. For the remaining target species, Atka mackerel and squids, the Council recommended, and the Secretary approved, the final 2014 and 2015 ABCs that are the same as the proposed 2014 and 2015 ABCs.

Additional information explaining the changes between the proposed and final ABCs is included in the final 2013 SAFE report, which was not available when the Council made its proposed ABC and TAC recommendations in October 2013. At that time, the most recent stock assessment information was contained in the final 2012 SAFE report. The final 2013 SAFE report contains the best and most recent scientific information on the condition of the groundfish stocks, as previously discussed in this preamble, and is available for review (see ADDRESSES). The Council considered the final 2013 SAFE report in December 2013 when it made recommendations for the final 2014 and 2015 harvest specifications. In the GOA, the total final 2014 TAC amount is 499,274 mt, an increase of 17 percent from the total proposed 2014 TAC amount of 427,068 mt. The total final 2015 TAC amount is 511,599 mt, an increase of 20 percent from the total proposed 2015 TAC amount of 427,068 mt. The following table in this preamble summarizes the principle reason for the difference between the proposed and final TACs.

Based on changes to the assessment method used by the stock assessment scientists, for 2014 and 2015 the greatest TAC increase is for deep-water flatfish and the greatest decrease is for flathead sole. Based on changes in the estimates of overall biomass, the greatest TAC increases are for pollock, Pacific ocean perch, shortraker rougheye, dusky rockfish, thornyhead rockfish, other rockfish, and longnose skate. Based upon changes in the estimates of biomass by stock assessment scientists, the greatest decreases in TACs are for sablefish, shallow-water flatfish, and demersal shelf rockfish. For all other species and species groups, changes from the proposed to the final TACs are within plus or minus five percent of the proposed TACs. These TAC changes correspond to associated changes in the ABCs and TACs, as recommended by the SSC, AP, and Council.

Additionally, based upon the Council's recommended changes in setting the TACs at amounts below ABCs the greatest decreases in TACs are for shallow-water flatfish, arrowtooth flounder, flathead sole, and “other rockfish.” The Council believed, and NMFS concurs, that setting TACs for the three preceding flatfish species equal to ABCs would not reflect anticipated harvest levels accurately, as the Council and NMFS expect halibut PSC limits to constrain these fisheries in both 2014 and 2015.

Detailed information providing the basis for the changes described above is contained in the final 2013 SAFE report. The final TACs are based on the best scientific information available. These TACs are specified in compliance with the harvest strategy described in the proposed and final rules for the 2014 and 2015 harvest specifications. The changes in TACs between the proposed rule and this final rule are compared in the following table.

Comparison of Proposed and Final 2014 and 2015 GOA Total Allowable Catch Limits
[Values are rounded to the nearest metric ton and percentage]
Species | 2014 and 2015 proposed TAC | 2014 Final TAC | 2014 Final minus 2014 proposed TAC | Percentage difference | 2015 Final TAC | 2015 Final minus 2015 proposed TAC | Percentage difference | Principle reason for difference
Pollock | 111,530 | 174,976 | 63,446 | 57 | 193,809 | 82,279 | 74 | Biomass. ¹
Pacific cod | 63,150 | 64,738 | 1,588 | 3 | 61,519 | −1,631 | −3 | Biomass.
Sablefish | 11,731 | 10,572 | −1,159 | −10 | 9,554 | −2,177 | −19 | Biomass.
Shallow-water flatfish | 36,641 | 33,679 | −2,962 | −8 | 32,027 | −4,614 | −13 | Biomass.
Deep-water flatfish | 5,126 | 13,472 | 8,346 | 163 | 13,303 | 8,177 | 160 | Model. ²
Rex sole | 9,242 | 9,341 | 99 | 1 | 9,155 | −87 | −1 | Biomass.
Arrowtooth flounder | 103,300 | 103,300 | 0 | 0 | 103,300 | 0 | 0 | Biomass.
Flathead sole | 30,632 | 27,746 | −2,886 | −9 | 27,726 | −2,906 | −9 | Model.
Pacific ocean perch | 16,133 | 19,309 | 3,176 | 20 | 19,764 | 3,631 | 23 | Biomass.
Northern rockfish | 4,850 | 5,322 | 472 | 10 | 5,010 | 160 | 3 | Biomass.
Shortraker rockfish | 1,081 | 1,323 | 242 | 22 | 1,323 | 242 | 22 | Biomass.
Dusky rockfish | 4,413 | 5,486 | 1,073 | 24 | 5,081 | 668 | 15 | Biomass.
Rougheye rockfish | 1,254 | 1,244 | −10 | −1 | 1,262 | 8 | 1 | Biomass.
Demersal shelf rockfish | 303 | 274 | −29 | −10 | 274 | −29 | −10 | Biomass.
Thornyhead rockfish | 1,665 | 1,841 | 176 | 11 | 1,841 | 176 | 11 | Biomass.
Other rockfish | 1,080 | 1,811 | 731 | 68 | 1,811 | 731 | 68 | N/A
Atka mackerel | 2,000 | 2,000 | 0 | 0 | 2,000 | 0 | 0 | N/A
Big skate | 3,767 | 3,762 | −5 | 0 | 3,762 | −5 | 0 | N/A
Longnose skate | 2,625 | 2,876 | 251 | 10 | 2,876 | 251 | 10 | N/A
Other skates | 2,030 | 1,989 | −41 | −2 | 1,989 | −41 | −2 | N/A
Sculpins | 5,884 | 5,569 | −315 | −5 | 5,569 | −315 | −5 | Biomass.
Sharks | 6,028 | 5,989 | −39 | −1 | 5,989 | −39 | −1 | N/A
Squids | 1,148 | 1,148 | 0 | 0 | 1,148 | 0 | 0 | N/A
Octopuses | 1,455 | 1,507 | 52 | 4 | 1,507 | 52 | 4 | N/A
Total | 427,068 | 499,274 | 72,206 | 17 | 511,599 | 84,531 | 19.8 | N/A
¹ Biomass—Change in estimate of biomass.
² Model—Change in assessment methodology.

The final 2014 and 2015 TAC recommendations for the GOA are within the OY range established for the GOA and do not exceed the ABC for any species or species group. Tables 1 and 2 list the final OFL, ABC, and TAC amounts for GOA groundfish for 2014 and 2015, respectively.

Table 1—Final 2014 ABCs, TACs, and OFLs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 36,070 | 36,070
| Chirikof (620) | n/a | 81,784 | 81,784
| Kodiak (630) | n/a | 39,756 | 39,756
| WYK (640) | n/a | 4,741 | 4,741
| W/C/WYK (subtotal) | 211,998 | 162,351 | 162,351
| SEO (650) | 16,833 | 12,625 | 12,625
| Total | 228,831 | 174,976 | 174,976
Pacific cod ³ | W | n/a | 32,745 | 22,922
| C | n/a | 53,100 | 39,825
| E | n/a | 2,655 | 1,991
| Total | 107,300 | 88,500 | 64,738
Sablefish ⁴ | W | n/a | 1,480 | 1,480
| C | n/a | 4,681 | 4,681
| WYK | n/a | 1,716 | 1,716
| SEO | n/a | 2,695 | 2,695
| E (WYK and SEO) (subtotal) | n/a | 4,411 | 4,411
| Total | 12,500 | 10,572 | 10,572
Shallow-water flatfish ⁵ | W | n/a | 20,376 | 13,250
| C | n/a | 17,813 | 17,813
| WYK | n/a | 2,039 | 2,039
| SEO | n/a | 577 | 577
| Total | 50,007 | 40,805 | 33,679
Deep-water flatfish ⁶ | W | n/a | 302 | 302
| C | n/a | 3,727 | 3,727
| WYK | n/a | 5,532 | 5,532
| SEO | n/a | 3,911 | 3,911
| Total | 16,159 | 13,472 | 13,472
Rex sole | W | n/a | 1,270 | 1,270
| C | n/a | 6,231 | 6,231
| WYK | n/a | 813 | 813
| SEO | n/a | 1,027 | 1,027
| Total | 12,207 | 9,341 | 9,341
Arrowtooth flounder | W | n/a | 31,142 | 14,500
| C | n/a | 115,612 | 75,000
| WYK | n/a | 37,232 | 6,900
| SEO | n/a | 11,372 | 6,900
| Total | 229,248 | 195,358 | 103,300
Flathead sole | W | n/a | 12,730 | 8,650
| C | n/a | 24,805 | 15,400
| WYK | n/a | 3,525 | 3,525
| SEO | n/a | 171 | 171
| Total | 50,664 | 41,231 | 27,746
Pacific ocean perch ⁷ | W | n/a | 2,399 | 2,399
| C | n/a | 12,855 | 12,855
| WYK | n/a | 1,931 | 1,931
| W/C/WYK subtotal | 21,016 | 17,185 | 17,185
| SEO | 1,303 | 2,124 | 2,124
| Total | 22,319 | 19,309 | 19,309
Northern rockfish ⁸ | W | n/a | 1,305 | 1,305
| C | n/a | 4,017 | 4,017
| E | n/a | n/a | n/a
| Total | 6,349 | 5,322 | 5,322
Shortraker rockfish ⁹ | W | n/a | 92 | 92
| C | n/a | 397 | 397
| E | n/a | 834 | 834
| Total | 1,764 | 1,323 | 1,323
Dusky rockfish ¹⁰ | W | n/a | 317 | 317
| C | n/a | 3,584 | 3,584
| WYK | n/a | 1,384 | 1,384
| SEO | n/a | 201 | 201
| Total | 6,708 | 5,486 | 5,486
Rougheye and Blackspotted rockfish ¹¹ | W C | n/a n/a | 82 864 | 82 864
| E | n/a | 298 | 298
| Total | 1,497 | 1,244 | 1,244
Demersal shelf rockfish ¹² | SEO | 438 | 274 | 274
Thornyhead rockfish | W | n/a | 235 | 235
| C | n/a | 875 | 875
| E | n/a | 731 | 731
| Total | 2,454 | 1,841 | 1,841
Other rockfish 13 14 | W and C | n/a | 1,031 | 1,031
| WYK | n/a | 580 | 580
| SEO | n/a | 2,470 | 200
| Total | 5,347 | 4,081 | 1,811
Atka mackerel | GW | 6,200 | 4,700 | 2,000
Big skate ¹⁵ | W | n/a | 589 | 589
| C | n/a | 1,532 | 1,532
| E | n/a | 1,641 | 1,641
| Total | 5,016 | 3,762 | 3,762
Longnose skate ¹⁶ | W | n/a | 107 | 107
| C | n/a | 1,935 | 1,935
| E | n/a | 834 | 834
| Total | 3,835 | 2,876 | 2,876
Other skates ¹⁷ | GW | 2,652 | 1,989 | 1,989
Sculpins | GW | 7,448 | 5,569 | 5,569
Sharks | GW | 7,986 | 5,989 | 5,989
Squids | GW | 1,530 | 1,148 | 1,148
Octopus | GW | 2,009 | 1,507 | 1,507
| Total | 790,468 | 640,675 | 499,274
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. During the A season, the apportionment is based on an adjusted estimate of the relative distribution of pollock biomass of approximately 16 percent, 62 percent, and 22 percent in Statistical Areas 610, 620, and 630, respectively. During the B season, the apportionment is based on the relative distribution of pollock biomass at 16 percent, 74 percent, and 10 percent in Statistical Areas 610, 620, and 630, respectively. During the C and D seasons, the apportionment is based on the relative distribution of pollock biomass at 36 percent, 28 percent, and 35 percent in Statistical Areas 610, 620, and 630, respectively. Table 3 lists the final 2014 seasonal apportionments. In the West Yakutat and Southeast Outside Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 5 lists the final 2014 Pacific cod seasonal apportionments.
⁴ Sablefish is allocated to trawl and hook-and-line gear in 2014. Table 7 lists the final 2014 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes the 2 mt apportionment of ABC to the WYK District of the Eastern Gulf of Alaska has been included in the other rockfish species group.
⁹ “Shortraker rockfish” means Sebastes borealis.
¹⁰ “Dusky rockfish” means Sebastes variabilis.
¹¹ “Rougheye rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja spp.

Table 2—Final 2015 ABCs, TACs, and OFLs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 40,254 | 40,254
| Chirikof (620) | n/a | 91,272 | 91,272
| Kodiak (630) | n/a | 44,367 | 44,367
| WYK (640) | n/a | 5,291 | 5,291
| W/C/WYK (subtotal) | 248,384 | 181,184 | 181,184
| SEO (650) | 16,833 | 12,625 | 12,625
| Total | 265,217 | 193,809 | 193,809
Pacific cod ³ | W | n/a | 31,117 | 21,782
| C | n/a | 50,460 | 37,845
| E | n/a | 2,523 | 1,892
| Total | 101,800 | 84,100 | 61,519
Sablefish ⁴ | W | n/a | 1,338 | 1,338
| C | n/a | 4,230 | 4,230
| WYK | n/a | 1,551 | 1,551
| SEO | n/a | 2,435 | 2,435
| E (WYK and SEO) (subtotal) | n/a | 3,986 | 3,986
| Total | 11,300 | 9,554 | 9,554
Shallow-water flatfish ⁵ | W | n/a | 18,728 | 13,250
| C | n/a | 16,372 | 16,372
| WYK | n/a | 1,875 | 1,875
| SEO | n/a | 530 | 530
| Total | 46,207 | 37,505 | 32,027
Deep-water flatfish ⁶ | W | n/a | 300 | 300
| C | n/a | 3,680 | 3,680
| WYK | n/a | 5,462 | 5,462
| SEO | n/a | 3,861 | 3,861
| Total | 15,955 | 13,303 | 13,303
Rex sole | W | n/a | 1,245 | 1,245
| C | n/a | 6,106 | 6,106
| WYK | n/a | 796 | 796
| SEO | n/a | 1,008 | 1,008
| Total | 11,963 | 9,155 | 9,155
Arrowtooth flounder | W | n/a | 30,217 | 14,500
| C | n/a | 112,178 | 75,000
| WYK | n/a | 36,126 | 6,900
| SEO | n/a | 11,035 | 6,900
| Total | 222,160 | 189,556 | 103,300
Flathead sole | W | n/a | 12,661 | 8,650
| C | n/a | 24,670 | 15,400
| WYK | n/a | 3,506 | 3,506
| SEO | n/a | 170 | 170
| Total | 50,376 | 41,007 | 27,726
Pacific ocean perch ⁷ | W | n/a | 2,456 | 2,456
| C | n/a | 13,158 | 13,158
| WYK | n/a | 1,976 | 1,976
| W/C/WYK | 20,336 | 17,590 | 17,590
| SEO | 2,513 | 2,174 | 2,174
| Total | 22,849 | 19,764 | 19,764
Northern rockfish ⁸ | W | n/a | 1,229 | 1,229
| C | n/a | 3,781 | 3,781
| E | n/a | n/a | n/a
| Total | 5,978 | 5,010 | 5,010
Shortraker rockfish ⁹ | W | n/a | 92 | 92
| C | n/a | 397 | 397
| E | n/a | 834 | 834
| Total | 1,764 | 1,323 | 1,323
Dusky rockfish ¹⁰ | W | n/a | 295 | 295
| C | n/a | 3,318 | 3,318
| WYK | n/a | 1,277 | 1,277
| SEO | n/a | 191 | 191
| Total | 6,213 | 5,081 | 5,081
Rougheye and Blackspotted rockfish ¹¹ | W C | n/a n/a | 83 877 | 83 877
| E | n/a | 302 | 302
| Total | 1,518 | 1,262 | 1,262
Demersal shelf rockfish ¹² | SEO | 438 | 274 | 274
Thornyhead rockfish | W | n/a | 235 | 235
| C | n/a | 875 | 875
| E | n/a | 731 | 731
| Total | 2,454 | 1,841 | 1,841
Other rockfish 13 14 | W | n/a | n/a | n/a
| C | n/a | 1,031 | 1,031
| WYK | n/a | 580 | 580
| SEO | n/a | 2,470 | 200
| Total | 5,347 | 4,081 | 1,811
Atka mackerel | GW | 6,200 | 4,700 | 2,000
Big skate ¹⁵ | W | n/a | 589 | 589
| C | n/a | 1,532 | 1,532
| E | n/a | 1,641 | 1,641
| Total | 5,016 | 3,762 | 3,762
Longnose skate ¹⁶ | W | n/a | 107 | 107
| C | n/a | 1,935 | 1,935
| E | n/a | 834 | 834
| Total | 3,835 | 2,876 | 2,876
Other skates ¹⁷ | GW | 2,652 | 1,989 | 1,989
Sculpins | GW | 7,448 | 5,569 | 5,569
Sharks | GW | 7,986 | 5,989 | 5,989
Squids | GW | 1,530 | 1,148 | 1,148
Octopus | GW | 2,009 | 1,507 | 1,507
Total |  | 808,215 | 644,165 | 511,599
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. During the A season, the apportionment is based on an adjusted estimate of the relative distribution of pollock biomass of approximately 16 percent, 62 percent, and 22 percent in Statistical Areas 610, 620, and 630, respectively. During the B season, the apportionment is based on the relative distribution of pollock biomass at 16 percent, 74 percent, and 10 percent in Statistical Areas 610, 620, and 630, respectively. During the C and D seasons, the apportionment is based on the relative distribution of pollock biomass at 37 percent, 28 percent, and 35 percent in Statistical Areas 610, 620, and 630, respectively. Table 4 lists the final 2015 seasonal apportionments. In the West Yakutat and Southeast Outside Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 6 lists the final 2015 Pacific cod seasonal apportionments.
⁴ Sablefish is only allocated to trawl gear for 2015. Table 8 lists the final 2015 allocation of sablefish TACs to trawl gear.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes the 2 mt apportionment of ABC to the WYK District of the Eastern Gulf of Alaska has been included in the other rockfish species group.
⁹ “Shortraker rockfish” means Sebastes borealis.
¹⁰ “Dusky rockfish” means Sebastes variabilis.
¹¹ “Rougheye rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja spp.

Apportionment of Reserves

Section 679.20(b)(2) requires NMFS to set aside 20 percent of each TAC for pollock, Pacific cod, flatfish, sculpins, sharks, squids, and octopuses in reserve for possible apportionment at a later date during the fishing year. For 2014 and 2015, NMFS proposed reapportionment of all the reserves in the proposed 2014 and 2015 harvest specifications published in the Federal Register on December 10, 2013 (78 FR 74079). NMFS did not receive any public comments on the proposed reapportionments. For the final 2014 and 2015 harvest specifications, NMFS reapportioned, as proposed, all the reserves for pollock, Pacific cod, flatfish, sculpins, sharks, squids, and octopuses. The TACs listed in Tables 1 and 2 reflect reapportionments of reserve amounts for these species and species groups.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. However, for 2014 and 2015, the Council recommended, and NMFS approves, averaging the winter and summer distribution of pollock in the Central Regulatory Area for the A season instead of using the distribution based on only the winter surveys. The average is intended to reflect the migration patterns and distribution of pollock, and the performance of the fishery, in that area during the A season for the 2014 and 2015 fishing years. For the A season, the apportionment is based on an adjusted estimate of the relative distribution of pollock biomass of approximately 12 percent, 66 percent, and 22 percent in Statistical Areas 610, 620, and 630, respectively. For the B season, the apportionment is based on the relative distribution of pollock biomass at 12 percent, 79 percent, and 9 percent in Statistical Areas 610, 620, and 630, respectively. For the C and D seasons, the apportionment is based on the relative distribution of pollock biomass at 34 percent, 32 percent, and 35 percent in Statistical Areas 610, 620, and 630, respectively.

Within any fishing year, the amount by which a seasonal allowance is underharvested or overharvested may be added to, or subtracted from, subsequent seasonal allowances in a manner to be determined by the Regional Administrator (§ 679.20(a)(5)(iv)(B)). The rollover amount is limited to 20 percent of the subsequent seasonal apportionment for the statistical area. Any unharvested pollock above the 20-percent limit could be further distributed to the other statistical areas, in proportion to the estimated biomass in the subsequent season in those statistical areas (§ 679.20(a)(5)(iv)(B)). The pollock TACs in the WYK and SEO District of 4,741 mt and 12,625 mt, respectively, in 2014, and 5,291 mt and 12,625 mt, respectively, in 2015, are not allocated by season.

Section 679.20(a)(6)(i) requires the allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Tables 3 and 4 list the final 2014 and 2015 seasonal biomass distribution of pollock in the Western and Central Regulatory Areas, area apportionments, and seasonal allowances. The amounts of pollock for processing by the inshore and offshore components are not shown.

Table 3—Final 2014 Distribution of Pollock in the Central and Western Regulatory Areas of the GOA; Seasonal Biomass Distribution, Area Apportionments; and Seasonal Allowances of Annual TAC
[Values are rounded to the nearest metric ton and percentages are rounded to the nearest 0.01]
Season ¹ | Shumagin (Area 610) |  | Chirikof (Area 620) |  | Kodiak (Area 630) |  | Total ²
A (Jan 20-Mar 10) | 4,800 | (12.18%) | 25,924 | (65.79%) | 8,680 | (22.03%) | 39,402
B (Mar 10-May 31) | 4,799 | (12.18%) | 30,963 | (78.58%) | 3,636 | (9.23%) | 39,402
C (Aug 25-Oct 1) | 13,235 | (33.59%) | 12,448 | (31.59%) | 13,720 | (34.82%) | 39,402
D (Oct 1-Nov 1) | 13,235 | (33.59%) | 12,448 | (31.59%) | 13,720 | (34.82%) | 39,402
Annual Total | 36,070 |  | 81,784 |  | 39,756 |  | 157,610
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Table 4—Final 2015 Distribution of Pollock in the Central and Western Regulatory Areas of the GOA; Seasonal Biomass Distribution, Area Apportionments; and Seasonal Allowances of Annual TAC
[Values are rounded to the nearest metric ton and percentages are rounded to the nearest 0.01]
Season ¹ | Shumagin (Area 610) |  | Chirikof (Area 620) |  | Kodiak (Area 630) |  | Total ²
A (Jan 20-Mar 10) | 5,357 | (12.18%) | 28,932 | (65.79%) | 9,687 | (22.03%) | 43,973
B (Mar 10-May 31) | 5,356 | (12.18%) | 34,555 | (78.58%) | 4,059 | (9.23%) | 43,973
C (Aug 25-Oct 1) | 14,771 | (33.59%) | 13,892 | (31.59%) | 15,311 | (34.82%) | 43,973
D (Oct 1-Nov 1) | 14,771 | (33.59%) | 13,892 | (31.59%) | 15,311 | (34.82%) | 43,973
Annual Total | 40,254 |  | 91,272 |  | 44,367 |  | 175,893
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Annual and Seasonal Apportionments of Pacific Cod TAC

Section 679.20(a)(12)(i) requires the allocation of the Pacific cod TACs in the Western and Central Regulatory Areas of the GOA among gear and operational sectors. Section 679.20(a)(6)(ii) requires the allocation of the Pacific cod TACs in the Eastern Regulatory Area of the GOA between the inshore and offshore components. NMFS allocates the 2014 and 2015 Pacific cod TAC based on these sector allocations annually between the inshore and offshore components in the Eastern GOA; seasonally between vessels using jig gear, CVs using hook-and-line gear, C/Ps using hook-and-line gear, CVs using trawl gear, and vessels using pot gear in the Western GOA; seasonally between vessels using jig gear, CVs less than 50 feet in length overall using hook-and-line gear, CVs equal to or greater than 50 feet in length overall using hook-and-line gear, C/Ps using hook-and-line gear, CVs using trawl gear, C/Ps using trawl gear, and vessels using pot gear in the Central GOA. The overall seasonal apportionments in the Western and Central GOA are 60 percent of the annual TAC to the A season and 40 percent of the annual TAC to the B season.

Under § 679.20(a)(12)(ii), any overage or underage of the Pacific cod allowance from the A season will be subtracted from, or added to, the subsequent B season allowance. In addition, any portion of the hook-and-line, trawl, pot, or jig sector allocations that NMFS determines is likely to go unharvested by a sector may be reapportioned to other sectors for harvest during the remainder of the fishery year.

In accordance with the FMP, the annual jig sector allocations may increase to up to 6 percent of the annual Western and Central GOA Pacific cod TACs, depending on the annual performance of the jig sector (See Table 1 of Amendment 83 to the FMP for a detailed discussion of the jig sector allocation process (76 FR 74670, December 1, 2011). Jig sector allocation increases are established for a minimum of 2 years. NMFS allocates the jig sector 2.5 percent of the annual Pacific cod TAC in the Western GOA. This includes a base allocation of 1.5 percent and an additional 1.0 percent because this sector harvested greater than 90 percent of its initial 2012 allocation in the Western GOA. NMFS also allocates the jig sector 2.0 percent of the annual Pacific cod TAC in the Central GOA. This includes a base allocation of 1.0 percent and an additional 1.0 percent because this sector harvested greater than 90 percent of its initial 2012 allocation in the Central GOA. In 2013, neither the Western nor Central GOA jig sectors harvested 90 percent of their respective 2013 Pacific cod allocations. In early 2015, NMFS will re-evaluate the annual 2013 and 2014 harvest performance of each jig sector and determine whether to maintain or decrease the jig sector allocations proposed by this action in conjunction with the 2015 and 2016 proposed harvest specifications. Tables 5 and 6 list the seasonal apportionments and allocations of the 2014 and 2015 Pacific cod TACs.

Table 5—Final 2014 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount]
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 573 | N/A | 344 | N/A | 229
Hook-and-line CV | 313 | 0.70 | 156 | 0.70 | 156
Hook-and-line C/P | 4,425 | 10.90 | 2,436 | 8.90 | 1,989
Trawl CV | 8,582 | 27.70 | 6,191 | 10.70 | 2,391
Trawl C/P | 536 | 0.90 | 201 | 1.50 | 335
All Pot CV and Pot C/P | 8,492 | 19.80 | 4,425 | 18.20 | 4,067
Total | 22,922 | 60.00 | 13,753 | 40.00 | 9,169
Central GOA:
Jig (2.0% of TAC) | 797 | N/A | 478 | N/A | 319
Hook-and-line < 50 CV | 5,699 | 9.32 | 3,636 | 5.29 | 2,063
Hook-and-line ≥ 50 CV | 2,617 | 5.61 | 2,189 | 1.10 | 428
Hook-and-line C/P | 1,992 | 4.11 | 1,603 | 1.00 | 389
Trawl CV ¹ | 16,230 | 21.14 | 8,249 | 20.45 | 7,981
Trawl C/P | 1,638 | 2.00 | 782 | 2.19 | 856
All Pot CV and Pot C/P | 10,852 | 17.83 | 6,959 | 9.97 | 3,893
Total | 39,825 | 60.00 | 23,895 | 40.00 | 15,930
Eastern GOA: |  | Inshore (90% of Annual TAC) |  | Offshore (10% of Annual TAC)
| 1,991 | 1,792 |  | 199
¹ Trawl vessels participating in Rockfish Program cooperatives receive 3.81 percent of the annual Central GOA TAC, which is deducted from the Trawl CV B season allowance (see Table 12).

Table 6—Final 2015 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount.]
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 545 | N/A | 327 | N/A | 218
Hook-and-line CV | 297 | 0.70 | 149 | 0.70 | 149
Hook-and-line C/P | 4,205 | 10.90 | 2,315 | 8.90 | 1,890
Trawl CV | 8,155 | 27.70 | 5,883 | 10.70 | 2,272
Trawl C/P | 510 | 0.90 | 191 | 1.50 | 319
All Pot CV and Pot C/P | 8,070 | 19.80 | 4,205 | 18.20 | 3,865
Total | 21,782 | 60.00 | 13,069 | 40.00 | 8,713
Central GOA: |
Jig (2.0% of TAC) | 757 | N/A | 454 | N/A | 303
Hook-and-line < 50 CV | 5,416 | 9.32 | 3,455 | 5.29 | 1,961
Hook-and-line ≥ 50 CV | 2,487 | 5.61 | 2,080 | 1.10 | 407
Hook-and-line C/P | 1,893 | 4.11 | 1,523 | 1.00 | 370
Trawl CV ¹ | 15,423 | 21.14 | 7,839 | 20.45 | 7,584
Trawl C/P | 1,557 | 2.00 | 743 | 2.19 | 814
All Pot CV and Pot C/P | 10,312 | 17.83 | 6,613 | 9.97 | 3,700
Total | 37,845 | 60.00 | 22,707 | 40.00 | 15,138
Eastern GOA |  | Inshore (90% of Annual TAC) |  | Offshore (10% of Annual TAC)
| 1,892 | 1,703 |  | 189
¹ Trawl vessels participating in Rockfish Program cooperatives receive 3.81 percent of the annual Central GOA TAC, which is deducted from the Trawl CV B season allowance (see Table13).

Allocations of the Sablefish TACs

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (§ 679.20(a)(4)(i)).

In recognition of the prohibition against trawl gear in the SEO District of the Eastern Regulatory Area, the Council recommended and NMFS approves the allocation of 5 percent of the combined Eastern Regulatory Area sablefish TAC to trawl gear in the WYK District, making the remainder of the WYK sablefish TAC available to vessels using hook-and-line gear. NMFS allocates 100 percent of the sablefish TAC in the SEO District to vessels using hook-and-line gear. This action results in a 2014 allocation of 221 mt to trawl gear and 1,495 mt to hook-and-line gear in the WYK District, a 2014 allocation of 2,695 mt to hook-and-line gear in the SEO District, and a 2015 allocation of 199 mt to trawl gear in the WYK District. Table 7 lists the allocations of the 2014 sablefish TACs to hook-and-line and trawl gear. Table 8 lists the allocations of the 2015 sablefish TACs to trawl gear.

The Council recommended that the hook-and-line sablefish TAC be established annually to ensure that this Individual Fishery Quota (IFQ) fishery is conducted concurrently with the halibut IFQ fishery and is based on recent sablefish survey information. The Council also recommended that only a trawl sablefish TAC be established for two years so that retention of incidental catch of sablefish by trawl gear could commence in January in the second year of the groundfish harvest specifications. Since there is an annual assessment for sablefish and the final harvest specifications are expected to be published before the IFQ season begins March 8, 2014, the Council recommended that the hook-and-line sablefish TAC be set on an annual basis, rather than for two years, so that the best scientific information available could be considered in establishing the sablefish ABCs and TACs. With the exception of the trawl allocations that were provided to the Rockfish Program cooperatives, directed fishing for sablefish with trawl gear is closed during the fishing year. Also, fishing for groundfish with trawl gear is prohibited prior to January 20. Therefore, it is not likely that the sablefish allocation to trawl gear would be reached before the effective date of the final 2014 and 2015 harvest specifications.

Table 7—Final 2014 Sablefish TAC Specifications in the GOA and Allocations to Hook-and-Line and Trawl Gear
[Values are rounded to the nearest metric ton]
Area/District | TAC | Hook-and-line allocation | Trawl allocation
Western | 1,480 | 1,184 | 296
Central | 4,681 | 3,745 | 936
West Yakutat ¹ | 1,716 | 1,495 | 221
Southeast Outside | 2,695 | 2,695 | 0
Total | 10,572 | 9,119 | 1,453
¹ The trawl allocation is based on allocating 5 percent of the combined Eastern Regulatory Area (West Yakutat and Southeast Outside combined) sablefish TAC to trawl gear in the West Yakutat District.

Table 8—Final 2015 Sablefish TAC Specifications in the GOA and Allocation to Trawl Gear ¹
[Values are rounded to the nearest metric ton]
Area/District | TAC | Hook-and-line allocation | Trawl allocation
Western | 1,338 | n/a | 268
Central | 4,230 | n/a | 846
West Yakutat ² | 1,551 | n/a | 199
Southeast Outside | 2,435 | n/a | 0
Total | 9,554 | n/a | 1,313
¹ The Council recommended that harvest specifications for the hook-and-line gear sablefish Individual Fishing Quota fisheries be limited to 1 year.
² The trawl allocation is based on allocating 5 percent of the combined Eastern Regulatory Area (West Yakutat and Southeast Outside combined) sablefish TAC to trawl gear in the West Yakutat District.

Demersal Shelf Rockfish (DSR)

The recommended 2014 and 2015 DSR TAC is 274 mt, and management of DSR is delegated to the State. In 2006, the Alaska Board of Fish allocated future SEO District DSR TACs between the commercial fishery (84 percent) and the sport fishery (16 percent) after deductions were made for anticipated subsistence harvests (7 mt). This results in 2014 and 2015 allocations of 224 mt to the commercial fishery and 43 mt to the sport fishery.

The State deducts estimates of incidental catch of DSR in the commercial halibut fishery and test fishery mortality from the DSR commercial fishery allocation. In 2014, this resulted in 32 mt being available for the directed commercial DSR fishery apportioned in one DSR district. The State estimated that there was not sufficient DSR quota available to have orderly fisheries in the three other DSR districts. DSR harvest in the halibut fishery is linked to the annual halibut catch limits; therefore the State can only estimate potential DSR incidental catch in that fishery when those halibut catch limits are established by the International Pacific Halibut Commission (IPHC). Federally permitted CVs using hook-and-line or jig gear fishing for groundfish and Pacific halibut in the SEO District of the GOA are required to retain all DSR (§ 679.20(j)).

Apportionments to the Central GOA Rockfish Program

These final 2014 and 2015 harvest specifications for the GOA include the various fishery cooperative allocations and sideboard limitations established by the Central GOA Rockfish Program. For the Rockfish Program, the rockfish primary species (Pacific ocean perch, northern rockfish, and dusky rockfish) are allocated to participants after deducting for incidental catch needs in other directed groundfish fisheries. Program participants are primarily trawl CVs and trawl C/Ps, with limited participation by vessels using longline gear.

The Rockfish Program assigns quota share and cooperative quota to participants for primary and secondary species, allows participants holding a license limitation program (LLP) license with rockfish quota share to form a rockfish cooperative, and allows holders of C/P LLP licenses to opt-out of the fishery. The Rockfish Program also has an entry level fishery for rockfish primary species for vessels using longline gear. Additionally, the Rockfish Program establishes sideboard limits to restrict the ability of harvesters operating under the Rockfish Program to increase their participation in other, non-Rockfish Program fisheries. Besides groundfish species, the Rockfish Program allocates a portion of the halibut PSC limit (191 mt) from the third season deep-water species fishery allowance for the GOA trawl fisheries to Rockfish Program participants (§ 679.81(d)), which includes 117 mt to the CV sector and 74 mt to the C/P sector.

Section 679.81(a)(2)(ii) requires allocations of 5 mt of Pacific ocean perch, 5 mt of northern rockfish, and 30 mt of dusky rockfish to the entry level longline fishery in 2014 and 2015. The allocation for the entry level longline fishery would increase incrementally each year if the catch exceeds 90 percent of the allocation of a species. The incremental increase in the allocation would continue each year until it is the maximum percent of the TAC for that species. In 2013, the catch did not exceed 90 percent of any allocated rockfish species. Therefore, NMFS is not increasing the entry level longline fishery 2014 and 2015 allocations in the Central GOA. Longline gear includes hook-and-line, jig, troll, and handline gear. The remainder of the TACs for the rockfish primary species would be allocated to the CV and C/P cooperatives. Table 9 lists the allocations of the 2014 and initial 2015 TACs for each rockfish primary species to the entry level longline fishery, the incremental increase for future years, and the maximum percent of the TAC for the entry level longline fishery.

Table 9—Final 2014 and Initial 2015 Allocations of Rockfish Primary Species to the Entry Level Longline Fishery in the Central Gulf of Alaska
Rockfish primary species | 2014 and 2015 allocations | Incremental increase in 2015 if ≥ 90% of 2014 allocation is harvested | Up to maximum % of TAC
Pacific ocean perch | 5 metric tons | 5 metric tons | 1
Northern rockfish | 5 metric tons | 5 metric tons | 2
Dusky rockfish | 30 metric tons | 20 metric tons | 5

Section 679.81(a)(2)(iii) requires allocations of the rockfish primary species among various components of the Rockfish Program. Tables 10 and 11 list the final 2014 and 2015 allocations of rockfish primary species in the Central GOA to the entry level longline fishery and other participants in the Rockfish Program, which include CV and C/P cooperatives. NMFS also is setting aside incidental catch amounts (ICAs) for other directed fisheries in the Central GOA of 1,200 mt of Pacific ocean perch, 200 mt of northern rockfish, and 200 mt of dusky rockfish. These amounts are based on recent average incidental catches in the Central GOA by other groundfish fisheries.

Allocations between vessels belonging to CV or C/P cooperatives are not included in these final harvest specifications. Rockfish Program applications for CV cooperatives and C/P cooperatives are not due to NMFS until March 1 of each calendar year, therefore, NMFS cannot calculate 2014 and 2015 allocations in conjunction with these final harvest specifications. NMFS will post these allocations on the Alaska Region Web site at (http://alaskafisheries.noaa.gov/sustainablefisheries/goarat/default.htm) when they become available after March 1.

Table 10—Final 2014 Allocations of Rockfish Primary Species in the Central Gulf of Alaska to the Entry Level Longline Fishery and Other Participants in the Rockfish Program
[Values are rounded to the nearest metric ton]
Rockfish primary species | TAC | Incidental catch allowance | TAC minus ICA | Allocation to the entry level longline ¹ fishery | Allocation to other participants in the Rockfish Program ²
Pacific ocean perch | 12,855 | 1,200 | 11,655 | 5 | 11,650
Northern rockfish | 4,017 | 200 | 3,817 | 5 | 3,812
Dusky rockfish | 3,584 | 200 | 3,384 | 30 | 3,354
Total | 20,456 | 1,600 | 18,856 | 40 | 18,816
¹ Longline gear includes hook-and-line, jig, troll, and handline gear.
² Other participants in the Rockfish Program include vessels in CV and C/P cooperatives.

Table 11—Final 2015 Allocations of Rockfish Primary Species in the Central Gulf of Alaska to the Entry Level Longline Fishery and Other Participants in the Rockfish Program
[Values are rounded to the nearest metric ton]
Rockfish primary species | TAC | Incidental catch allowance | TAC minus ICA | Allocation to the entry level longline ¹ fishery | Allocation to other participants in the Rockfish Program ²
Pacific ocean perch | 13,158 | 1,200 | 11,958 | 5 | 11,953
Northern rockfish | 3,781 | 200 | 3,581 | 5 | 3,576
Dusky rockfish | 3,318 | 200 | 3,118 | 30 | 3,088
Total | 20,257 | 1,600 | 18,657 | 40 | 18,617
¹ Longline gear includes hook-and-line, jig, troll, and handline gear.
² Other participants in the Rockfish Program include vessels in CV and C/P cooperatives.

Section 679.81(c) requires allocations of rockfish secondary species to CV and C/P cooperatives in the Central GOA. CV cooperatives receive allocations of Pacific cod, sablefish from the trawl gear allocation, and thornyhead rockfish. C/P cooperatives receive allocations of sablefish from the trawl allocation, rougheye rockfish, shortraker rockfish, and thornyhead rockfish. Tables 12 and 13 lists the apportionments of the 2014 and 2015 TACs of rockfish secondary species in the Central GOA to CV and C/P cooperatives.

Table 12—Final 2014 Apportionments of Rockfish Secondary Species in the Central GOA to Catcher Vessel and Catcher/Processor Cooperatives
[Values are rounded to the nearest metric ton]
Rockfish secondary species | Annual central GOA TAC | Catcher vessel cooperatives: Percentage of TAC | Catcher vessel cooperatives: Apportionment (mt) | Catcher/processor cooperatives: Percentage of TAC | Catcher/processor cooperatives: Apportionment (mt)
Pacific cod | 39,825 | 3.81 | 1,517 | 0.00 | 0
Sablefish | 4,681 | 6.78 | 317 | 3.51 | 164
Shortraker rockfish | 397 | 0.00 | 0 | 40.00 | 159
Rougheye rockfish | 864 | 0.00 | 0 | 58.87 | 509
Thornyhead rockfish | 875 | 7.84 | 69 | 26.50 | 232

Table 13—Final 2015 Apportionments of Rockfish Secondary Species in the Central GOA to Catcher Vessel and Cather/Processor Cooperatives
[Values are rounded to the nearest metric ton]
Rockfish secondary species | Annual central GOA TAC | Catcher vessel cooperatives: Percentage of TAC | Catcher vessel cooperatives: Apportionment (mt) | Catcher/processor cooperatives: Percentage of TAC | Catcher/processor cooperatives: Apportionment (mt)
Pacific cod | 37,845 | 3.81 | 1,442 | 0.00 | 0
Sablefish | 4,230 | 6.78 | 287 | 3.51 | 148
Shortraker rockfish | 397 | 0.00 | 0 | 40.00 | 159
Rougheye rockfish | 877 | 0.00 | 0 | 58.87 | 516
Thornyhead rockfish | 875 | 7.84 | 69 | 26.50 | 232

Halibut PSC Limits

Section 679.21(d) establishes the annual halibut PSC limit apportionments to trawl and hook-and-line gear, and authorizes the establishment of apportionments for pot gear. As discussed previously in this preamble, the final rule implementing Amendment 95 (79 FR 9625, February 20, 2014) reduced the halibut PSC limits for the GOA trawl and hook-and-line sectors. In December 2013, the Council incorporated these reductions into its recommended final 2014 and 2015 harvest specifications. The Council recommended 2014 halibut PSC limits of 1,848 mt for trawl gear, 270 mt for hook-and-line gear, and 9 mt for the DSR fishery. The Council also recommended 2015 halibut PSC limits of 1,759 mt for the trawl sector, 261 mt for the hook-and-line sector, and 9 mt for the DSR fishery. The proposed 2014 and 2015 harvest specifications (78 FR 74079, December 10, 2013) discuss the potential that the proposed halibut PSC limits could be reduced, pending implementation of Amendment 95. The reductions established by Amendment 95 (79 FR 9625, February 20, 2014) are implemented by this action.

The FMP authorizes the Council to exempt specific gear from the halibut PSC limits. NMFS, after consultation with the Council, exempts pot gear, jig gear, and the sablefish IFQ hook-and-line gear fishery categories from the non-trawl halibut PSC limit for 2014 and 2015. The Council recommended, and NMFS approves, these exemptions because (1) the pot gear fisheries have low annual halibut bycatch mortality, (2) IFQ program regulations prohibit discard of halibut if any halibut IFQ permit holder on board a catcher vessel holds unused halibut IFQ (§ 679.7(f)(11)), (3) sablefish IFQ fishermen typically hold halibut IFQ permits and are therefore required to retain the halibut they catch while fishing sablefish IFQ, and (4) NMFS estimates negligible halibut mortality for the jig gear fisheries. NMFS estimates that halibut mortality is negligible in the jig gear fisheries given the small amount of groundfish harvested by jig gear, the selective nature of jig gear, and the high survival rates of halibut caught and released with jig gear.

NMFS implemented a restructured observer program in 2013 (77 FR 70062, November 21, 2012). The restructured observer program provides data on fisheries that have previously been unobserved or were subject to very limited observer coverage. Specifically, the restructured observer program will improve biological and fisheries data, including halibut PSC, for pot and sablefish IFQ fisheries. NMFS will continue to review halibut PSC data collected in pot and sablefish IFQ fisheries in 2013 and 2014, and provide input to the GOA Plan Team and Council. These data could be considered in future years when deciding whether to exempt specific gear from halibut PSC limits.

Section 679.21(d)(4) authorizes NMFS to seasonally apportion the halibut PSC limits after consultation with the Council. The FMP and regulations require the Council and NMFS to consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry. The Council considered information from the 2013 SAFE report, NMFS catch data, State of Alaska catch data, IPHC stock assessment and mortality data, and public testimony when apportioning the halibut PSC limits. NMFS concurs with the Council's recommendations listed in Tables 14 and 15, which respectively shows the final 2014 and 2015 Pacific halibut PSC limits, allowances, and apportionments. The limits reflect the revised halibut PSC limits implemented in accordance with Amendment 95 (79 FR 9625, February 20, 2014).

Sections 679.21(d)(4)(iii) and (iv) specify that any underages or overages of a seasonal apportionment of a PSC limit will be deducted from or added to the next respective seasonal apportionment within the fishing year. Additionally, residual amounts of a seasonal Amendment 80 sideboard halibut PSC limit may carry forward to the next season limit (§ 679.92(b)(2)).

Table 14—Final 2014 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 508 | January 1-June 10 | 86 | 233 | January 1-December 31 | 9
April 1-July 1 | 20 | 370 | June 10-September 1 | 2 | 5 |  |
July 1-September 1 | 30 | 554 | September 1-December 31 | 12 | 32 |  |
September 1-October 1 | 7.5 | 139 |  |  |  |  |
October 1-December 31 | 15 | 277 |  |  |  |  |
Total |  | 1,848 |  |  | 270 |  | 9
¹ The Pacific halibut prohibited species catch (PSC) limit for hook-and-line gear is allocated to the demersal shelf rockfish (DSR) fishery and fisheries other than DSR. The hook-and-line sablefish fishery is exempt from halibut PSC limits, as are pot and jig gear for all groundfish fisheries.

Table 15—Final 2015 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 484 | January 1-June 10 | 86 | 225 | January 1-December 31 | 9
April 1-July 1 | 20 | 352 | June 10-September 1 | 2 | 5 |  |
July 1-September 1 | 30 | 528 | September 1-December 31 | 12 | 31 |  |
September 1-October 1 | 7.5 | 132 |  |  |  |  |
October 1-December 31 | 15 | 263 |  |  |  |  |
Total |  | 1,759 |  |  | 261 |  | 9
¹ The Pacific halibut prohibited species catch (PSC) limit for hook-and-line gear is allocated to the demersal shelf rockfish (DSR) fishery and fisheries other than DSR. The hook-and-line sablefish fishery is exempt from halibut PSC limits, as are pot and jig gear for all groundfish fisheries.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species fishery, composed of sablefish, rockfish, deep-water flatfish, rex sole, and arrowtooth flounder; and (2) a shallow-water species fishery, composed of pollock, Pacific cod, shallow-water flatfish, flathead sole, Atka mackerel, skates, and “other species” (sculpins, sharks, squids, and octopuses) (§ 679.21(d)(3)(iii)). Tables 16 and 17 list, respectively, the final 2014 and 2015 apportionments of halibut PSC trawl limits between the trawl gear deep-water and the shallow-water species fishery categories. These limits are based on the reductions implemented by Amendment 95 (79 FR 9625, February 20, 2014), which resulted in proportional reductions to the seasonal apportionments to the deep-water and shallow-water fishery.

Table 28d to 50 CFR part 679 specifies the amount of halibut PSC that is assigned to the CV and C/P sectors that are participating in the Central GOA Rockfish Program. This includes 117 mt of halibut PSC to the CV sector and 74 mt of halibut PSC to the C/P sector. These amounts are allocated from the trawl deep-water species fishery's halibut PSC third seasonal apportionment.

Section 679.21(d)(4)(iii)(B) limits the amount of the halibut PSC limit allocated to Rockfish Program participants that could be re-apportioned to the general GOA trawl fisheries to no more than 55 percent of the unused annual halibut PSC apportioned to Rockfish Program participants. The remainder of the unused Rockfish Program halibut PSC limit is unavailable for use by vessels directed fishing with trawl gear for the remainder of the fishing year.

Table 16—Final 2014 Apportionment of Pacific Halibut PSC Trawl Limits Between the Trawl Gear Deep-Water Species Fishery and the Shallow-Water Species Fishery Categories
[Values are in metric tons]
Season | Shallow-water | Deep-water ¹ | Total
January 20-April 1 | 416 | 92 | 508
April 1-July 1 | 92 | 277 | 369
July 1-September 1 | 185 | 370 | 555
September 1-October 1 | 139 | (*) | 139
Subtotal January 20-October 1 | 832 | 739 | 1,571
October 1-December 31 ² |  |  | 277
Total |  |  | 1,848
¹ Vessels participating in cooperatives in the Central GOA Rockfish Program will receive 191 mt of the third season (July 1 through September 1) deep-water species fishery halibut PSC apportionment.
² There is no apportionment between trawl shallow-water and deep-water species fishery categories during the fifth season (October 1 through December 31).
* Any remainder.

Table 17—Final 2015 Apportionment of Pacific Halibut PSC Trawl Limits Between the Trawl Gear Deep-Water Species Fishery and the Shallow-Water Species Fishery Categories
[Values are in metric tons]
Season | Shallow-water | Deep-water ¹ | Total
January 20-April 1 | 396 | 88 | 484
April 1-July 1 | 88 | 264 | 352
July 1-September 1 | 176 | 352 | 528
September 1-October 1 | 132 | (*) | 132
Subtotal January 20-October 1 | 792 | 704 | 1,496
October 1-December 31 ² |  |  | 264
Total |  |  | 1,760
¹ Vessels participating in cooperatives in the Central GOA Rockfish Program will receive 191 mt of the third season (July 1 through September 1) deep-water species fishery halibut PSC apportionment.
² There is no apportionment between trawl shallow-water and deep-water species fishery categories during the fifth season (October 1 through December 31).
* Any remainder.

Section 679.21(d)(4) requires that the “other than DSR” halibut PSC apportionment to vessels using hook-and-line gear must be apportioned between CVs and C/Ps in accordance with § 679.21(d)(2)(iii) in conjunction with these harvest specifications. A comprehensive description and example of the calculations necessary to apportion the “other than DSR” hook-and-line halibut PSC limit between the hook-and-line CV and C/P sectors were included in the proposed rule to implement Amendment 83 (76 FR 44700, July 26, 2011) and are not repeated here.

For 2014, NMFS apportions halibut PSC limits of 154 mt and 115 mt to the hook-and-line CV and hook-and-line C/P sectors, respectively. For 2015, NMFS apportions halibut PSC limits of 146 mt and 115 mt to the hook-and-line CV and hook-and-line C/P sectors, respectively. Tables 18 and 19 list, respectively, the final 2014 and 2015 apportionments of halibut PSC limits between the hook-and-line CV and hook-and-line C/P sectors. These limits are based on the reductions implemented by Amendment 95 (79 FR 9625, February 20, 2014), which resulted in proportional reductions to the seasonal apportionments to these sectors.

Pursuant to § 679.21(d)(2)(iii), the hook-and-line halibut PSC limit is apportioned between the CV and C/P sectors in proportion to the total Western and Central GOA Pacific cod allocations, which vary annually based on the proportion of the Pacific cod biomass. Pacific cod is apportioned among these two management areas based on the percentage of overall biomass per area, as calculated in the 2013 Pacific cod stock assessment. Updated information in the final 2013 SAFE report describes this distributional change, which is based on allocating ABC among regulatory areas on the basis of the three most recent stock surveys. The distribution of the total GOA Pacific cod ABC has changed to 37 percent Western GOA, 60 percent Central GOA, and 3 percent Eastern GOA. Therefore, the calculations made in accordance with § 679.21(d)(2)(iii) incorporate the most recent change in GOA Pacific cod distribution with respect to establishing the annual halibut PSC limits for the CV and C/P hook-and-line sectors. The annual halibut PSC limits are divided into three seasonal apportionments, using seasonal percentages of 86 percent, 2 percent, and 12 percent. Tables 18 and 19 list, respectively, the 2014 and 2015 annual and seasonal halibut PSC apportionments between the hook-and-line sectors in the GOA.

No later than November 1 of each year, NMFS will calculate the projected unused amount of halibut PSC limit by either of the hook-and-line sectors for the remainder of the year. The projected unused amount of halibut PSC limit is made available to the other hook-and-line sector for the remainder of that fishing year if NMFS determines that an additional amount of halibut PSC is necessary for that sector to continue its directed fishing operations (§ 679.21(d)(2)(iii)(C)).

Table 18—Final 2014 Apportionments of the “Other Hook-and-Line Fisheries” Annual Halibut PSC Allowance Between the Hook-and-Line Gear Catcher Vessel and Catcher/Processor Sectors
[Values are in metric tons]
“Other than DSR” allowance | Hook-and-line sector | Percent of annual amount | Sector annual amount | Season | Seasonal percentage | Sector seasonal amount
270 | Catcher Vessel | 57.3 | 154 | January 1—June 10 | 86 | 132
|  |  |  | June 10-September 1 | 2 | 3
|  |  |  | September 1-December 31 | 12 | 18
| Catcher/Processor | 42.7 | 115 | January 1-June 10 | 86 | 99
|  |  |  | June 10-September 1 | 2 | 2
|  |  |  | September 1-December 31 | 12 | 14

Table 19—Final 2015 Apportionments of the “Other Hook-and-Line Fisheries” Annual Halibut PSC Allowance Between the Hook-and-Line Gear Catcher Vessel and Catcher/Processor Sectors
[Values are in metric tons]
“Other than DSR” allowance | Hook-and-line sector | Percent of annual amount | Sector annual amount | Season | Seasonal percentage | Sector seasonal amount
261 | Catcher Vessel | 57.3 | 146 | January 1-June 10 | 86 | 126
|  |  |  | June 10-September 1 | 2 | 3
|  |  |  | September 1-December 31 | 12 | 18
| Catcher/Processor | 42.7 | 115 | January 1-June 10 | 86 | 99
|  |  |  | June 10-September 1 | 2 | 2
|  |  |  | September 1-December 31 | 12 | 14

Estimated Halibut Bycatch in Prior Years

The best available information on estimated halibut bycatch consists of data collected by fisheries observers during 2013. The calculated halibut bycatch mortality by trawl and hook-and-line gear in 2013 is 1,224 mt and 166 mt, respectively, for a total halibut mortality of 1,390 mt. Although these amounts are lower than the annual halibut PSC limits established in 2013, sector and or seasonal halibut PSC limits may affect specific fisheries. For example, halibut bycatch restrictions constrained trawl gear fisheries seasonally during the 2013 fishing year. Table 20 lists the closure dates for fisheries that resulted from the attainment of seasonal or annual halibut PSC limits.

Table 20—2013 Fishery Closures Due to Attainment of Pacific Halibut PSC Limits
Fishery category | Opening date | Closure date | Federal Register citation
Trawl Deep-water,¹ season 2 | April 1, 2013 | May 18, 2013 | 78 FR 30242, May 22, 2013.
Hook-and-line gear, all sectors and targets ² | January 1, 2013 | Remained open entire year |
¹ With the exception of vessels participating in the Central GOA Rockfish Program and vessels fishing for pollock using pelagic trawl gear.
² With the exception of the sablefish fishery which was open March 23, 2013, through November 7, 2013.

Current Estimates of Halibut Biomass and Stock Condition

The IPHC annually assesses the abundance and potential yield of the Pacific halibut using all available data from the commercial and sport fisheries, other removals, and scientific surveys. Additional information on the Pacific halibut stock assessment may be found in the IPHC's 2013 Pacific halibut stock assessment (December 2013), available on the IPHC Web site at www.iphc.int. The IPHC considered the 2013 Pacific halibut stock assessment at its January 2014 annual meeting when it set the 2014 commercial halibut fishery catch limits.

The halibut resource is fully utilized. Recent catches in the commercial halibut fisheries off Alaska have averaged 26,372 mt round weight per year for the last 10 years (2004 through 2013). In January 2014, the IPHC recommended Alaska commercial catch limits totaling 10,129 mt round weight for 2014, a 37 percent decrease from 13,908 mt in 2013. Through December 31, 2013, commercial hook-and-line harvests of halibut off Alaska totaled 13,277 mt round weight. For more information, see the proposed 2014 and 2015 harvest specifications (78 FR 74079, December 10, 2013), which discusses the potential impacts of expected fishing for groundfish on halibut stocks, as well as methods available for reducing halibut bycatch in the groundfish fisheries.

Halibut Discard Mortality Rates

To monitor halibut bycatch mortality allowances and apportionments, the Regional Administrator uses observed halibut incidental catch rates, discard mortality rates (DMRs), and estimates of groundfish catch to project when a fishery's halibut bycatch mortality allowance or seasonal apportionment is reached. The DMRs are based on the best information available, including information contained in the annual SAFE report.

NMFS is implementing the Council's recommendation that the halibut DMRs developed and recommended by the IPHC for the 2013 through 2015 GOA groundfish fisheries be used for monitoring the final 2014 and 2015 halibut bycatch mortality allowances (see Tables 14 through 19). The IPHC developed the DMRs for the 2013 through 2015 GOA groundfish fisheries using the 10-year mean DMRs for those fisheries. Long-term average DMRs were not available for some fisheries, so rates from the most recent years were used. For the skate, sculpin, shark, squid, and octopus target fisheries, where not enough mortality data are available, the mortality rate of halibut caught in the Pacific cod fishery for that gear type was recommended as a default rate. The IPHC will analyze observer data annually and recommend changes to the DMRs when a fishery DMR shows large variation from the mean. A discussion of the DMRs and how the IPHC establishes them is available from the Council (see ADDRESSES). Table 21 lists the final 2014 and 2015 DMRs. These DMRs are unchanged from the proposed 2014 and 2015 harvest specifications (78 FR 74079, December 10, 2013).

Table 21—Final 2014 and 2015 Halibut Discard Mortality Rates for Vessels Fishing in the Gulf of Alaska
[Values are percent of halibut assumed to be dead]
Gear | Target fishery | Mortality rate (%)
Hook-and-line | Other fisheries ¹ | 11
| Skates | 11
| Pacific cod | 11
| Rockfish | 9
Trawl | Arrowtooth flounder | 73
| Deep-water flatfish | 43
| Flathead sole | 65
| Non-pelagic pollock | 60
| Other fisheries ¹ | 62
| Pacific cod | 62
| Pelagic pollock | 71
| Rex sole | 69
| Rockfish | 66
| Sablefish | 71
| Shallow-water flatfish | 67
Pot | Other fisheries ¹ | 17
| Pacific cod | 17
¹ Other fisheries includes all gear types for skates, sculpins, sharks, squids, octopuses, and hook-and-line sablefish.

Chinook Salmon Prohibited Species Catch Limits

In 2012, NMFS issued a final rule to implement Amendment 93 to the GOA FMP (77 FR 42629, July 20, 2012). Amendment 93 established separate Chinook salmon PSC limits in the Western and Central GOA in the directed pollock fishery. These limits require NMFS to close the pollock directed fishery in the Western and Central regulatory areas of the GOA if the applicable limit is reached (§ 679.21(h)(6)). The annual Chinook salmon PSC limits in the pollock directed fishery of 6,684 salmon in the Western GOA and 18,316 salmon in the Central GOA are set in regulation at § 679.21(h)(2)(i) and (ii). In addition, all salmon (regardless of species) taken in the pollock directed fisheries in the Western and Central GOA must be retained until an observer at the processing facility that takes delivery of the catch is provided an opportunity to count the number of salmon and to collect any scientific data or biological samples from the salmon (§ 679.21(h)(4)). American Fisheries Act C/P and CV Groundfish Harvest and PSC Limits

Section 679.64 establishes groundfish harvesting and processing sideboard limitations on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of groundfish in the GOA. Additionally, § 679.7(k)(1)(iv) prohibits listed AFA C/Ps from processing any pollock harvested in a directed pollock fishery in the GOA and any groundfish harvested in Statistical Area 630 of the GOA.

AFA CVs that are less than 125 ft (38.1 meters) length overall, have annual landings of pollock in the Bering Sea and Aleutian Islands less than 5,100 mt, and have made at least 40 groundfish landings from 1995 through 1997 are exempt from GOA sideboard limits under § 679.64(b)(2)(ii). Sideboard limits for non-exempt AFA CVs in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period.

Tables 22 and 23 list the final 2014 and 2015 groundfish sideboard limits for non-exempt AFA CVs. NMFS will deduct all targeted or incidental catch of sideboard species made by non-exempt AFA CVs from the sideboard limits listed in Tables 22 and 23.

Table 22—Final 2014 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Final 2014 TACs | Final 2014 non-exempt AFA CV sideboard limit
Pollock | A Season January 20-March 10 | Shumagin (610) Chirikof (620) | 0.6047 0.1167 | 4,800 25,924 | 2,903 3,025
|  | Kodiak (630) | 0.2028 | 8,680 | 1,760
| B Season March 10-May 31 | Shumagin (610) Chirikof (620) | 0.6047 0.1167 | 4,799 30,963 | 2,902 3,613
|  | Kodiak (630) | 0.2028 | 3,636 | 737
| C Season August 25-October 1 | Shumagin (610) Chirikof (620) | 0.6047 0.1167 | 13,235 12,448 | 8,003 1,453
|  | Kodiak (630) | 0.2028 | 13,720 | 2,782
| D Season October 1-November 1 | Shumagin (610) Chirikof (620) | 0.6047 0.1167 | 13,235 12,448 | 8,003 1,453
|  | Kodiak (630) | 0.2028 | 13,720 | 2,782
| Annual | WYK (640) | 0.3495 | 4,741 | 1,657
|  | SEO (650) | 0.3495 | 12,625 | 4,412
Pacific cod | A Season ¹ January 1-June 10 | W C | 0.1331 0.0692 | 13,753 23,895 | 1,831 1,654
| B Season ² September 1-December 31 | W | 0.1331 | 9,169 | 1,220
|  | C | 0.0692 | 15,930 | 1,102
| Annual | E inshore | 0.0079 | 1,792 | 14
|  | E offshore | 0.0078 | 199 | 2
Sablefish | Annual, trawl gear | W | 0.0000 | 296 | 0
|  | C | 0.0642 | 936 | 60
|  | E | 0.0433 | 221 | 10
Flatfish, Shallow-water | Annual | W | 0.0156 | 13,250 | 207
|  | C | 0.0587 | 17,813 | 1,046
|  | E | 0.0126 | 2,616 | 33
Flatfish, deep-water | Annual | W | 0.0000 | 302 | 0
|  | C | 0.0647 | 3,727 | 241
|  | E | 0.0128 | 9,443 | 121
Rex sole | Annual | W | 0.0007 | 1,270 | 1
|  | C | 0.0384 | 6,231 | 239
|  | E | 0.0029 | 1,840 | 5
Arrowtooth Flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 3,696 | 3
Pacific ocean perch | Annual | W | 0.0023 | 2,399 | 6
|  | C | 0.0748 | 12,855 | 962
|  | E | 0.0466 | 4,055 | 189
Northern rockfish | Annual | W | 0.0003 | 1,305 | 0
|  | C | 0.0277 | 4,017 | 111
Shortraker rockfish | Annual | W | 0.0000 | 92 | 0
|  | C | 0.0218 | 397 | 9
|  | E | 0.0110 | 834 | 9
Dusky rockfish | Annual | W | 0.0001 | 317 | 0
|  | C | 0.0000 | 3,584 | 0
|  | E | 0.0067 | 1,585 | 11
Rougheye rockfish | Annual | W | 0.0000 | 82 | 0
|  | C | 0.0237 | 864 | 20
|  | E | 0.0124 | 298 | 4
Demersal shelf rockfish | Annual | SEO | 0.0020 | 274 | 1
Thornyhead rockfish | Annual | W | 0.0280 | 235 | 7
|  | C | 0.0280 | 875 | 25
|  | E | 0.0280 | 731 | 20
Other rockfish | Annual | W | 0.0034 | n/a | n/a
|  | C | 0.1699 | 1,031 | 175
|  | E | 0.0000 | 780 | 0
Atka mackerel | Annual | Gulfwide | 0.0309 | 2,000 | 62
Big skates | Annual | W | 0.0063 | 589 | 4
|  | C | 0.0063 | 1,532 | 10
|  | E | 0.0063 | 1,641 | 10
Longnose skates | Annual | W | 0.0063 | 107 | 1
|  | C | 0.0063 | 1,935 | 12
|  | E | 0.0063 | 834 | 5
Other skates | Annual | Gulfwide | 0.0063 | 1,989 | 13
Sculpins | Annual | Gulfwide | 0.0063 | 5,569 | 35
Sharks | Annual | Gulfwide | 0.0063 | 5,989 | 38
Squids | Annual | Gulfwide | 0.0063 | 1,148 | 7
Octopuses | Annual | Gulfwide | 0.0063 | 1,507 | 9
¹ The Pacific cod A season for trawl gear does not open until January 20.
² The Pacific cod B season for trawl gear closes November 1.

Table 23—Final 2015 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Final 2015 TACs | Final 2015 non-exempt AFA CV sideboard limit
Pollock | A Season January 20-March 10 | Shumagin (610) Chirikof (620) | 0.6047 0.1167 | 5,357 28,932 | 3,239 3,376
|  | Kodiak (630) | 0.2028 | 9,687 | 1,965
| B Season March 10-May 31 | Shumagin (610) Chirikof (620) | 0.6047 0.1167 | 5,356 34,555 | 3,239 4,032
|  | Kodiak (630) | 0.2028 | 4,059 | 823
| C Season August 25-October 1 | Shumagin (610) Chirikof (620) | 0.6047 0.1167 | 14,771 13,892 | 8,932 1,621
|  | Kodiak (630) | 0.2028 | 15,311 | 3,105
| D Season October 1-November 1 | Shumagin (610) Chirikof (620) | 0.6047 0.1167 | 14,771 13,892 | 8,932 1,621
|  | Kodiak (630) | 0.2028 | 15,311 | 3,105
| Annual | WYK (640) | 0.3495 | 5,291 | 1,849
|  | SEO (650) | 0.3495 | 12,625 | 4,412
Pacific cod | A Season ¹ January 1-June 10 | W C | 0.1331 0.0692 | 13,069 22,707 | 1,740 1,571
| B Season ² September 1-December 31 | W | 0.1331 | 8,713 | 1,160
|  | C | 0.0692 | 15,138 | 1,048
| Annual | E inshore | 0.0079 | 1,703 | 13
|  | E offshore | 0.0078 | 189 | 1
Sablefish | Annual, trawl gear | W | 0.0000 | 268 | 0
|  | C | 0.0642 | 846 | 54
|  | E | 0.0433 | 199 | 9
Flatfish, Shallow-water | Annual | W | 0.0156 | 13,250 | 207
|  | C | 0.0587 | 16,372 | 961
|  | E | 0.0126 | 2,405 | 30
Flatfish, deep-water | Annual | W | 0.0000 | 300 | 0
|  | C | 0.0647 | 3,680 | 238
|  | E | 0.0128 | 9,323 | 119
Rex sole deep-water | Annual | W | 0.0007 | 1,245 | 1
|  | C | 0.0384 | 6,106 | 234
|  | E | 0.0029 | 1,804 | 5
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 3,676 | 3
Pacific ocean perch | Annual | W | 0.0023 | 2,456 | 6
|  | C | 0.0748 | 13,158 | 984
|  | E | 0.0466 | 4,150 | 193
Northern Rockfish | Annual | W | 0.0003 | 1,229 | 0
|  | C | 0.0277 | 3,781 | 105
Shortraker rockfish | Annual | W | 0.0000 | 92 | 0
|  | C | 0.0218 | 397 | 9
|  | E | 0.0110 | 834 | 9
Dusky rockfish | Annual | W | 0.0001 | 295 | 0
|  | C | 0.0000 | 3,318 | 0
|  | E | 0.0067 | 1,468 | 10
Rougheye rockfish | Annual | W | 0.0000 | 83 | 0
|  | C | 0.0237 | 877 | 21
|  | E | 0.0124 | 302 | 4
Demersal shelf rockfish | Annual | SEO | 0.0020 | 274 | 1
Thornyhead rockfish | Annual | W | 0.0280 | 235 | 7
|  | C | 0.0280 | 875 | 25
|  | E | 0.0280 | 731 | 20
Other Rockfish | Annual | W | 0.0034 | n/a | n/a
|  | C | 0.1699 | 1,031 | 175
|  | E | 0.0000 | 780 | 0
Atka mackerel | Annual | Gulfwide | 0.0309 | 2,000 | 62
Big skates | Annual | W | 0.0063 | 589 | 4
|  | C | 0.0063 | 1,532 | 10
|  | E | 0.0063 | 1,641 | 10
Longnose skates | Annual | W | 0.0063 | 107 | 1
|  | C | 0.0063 | 1,935 | 12
|  | E | 0.0063 | 834 | 5
Other skates | Annual | Gulfwide | 0.0063 | 1,989 | 13
Sculpins | Annual | Gulfwide | 0.0063 | 5,569 | 35
Squids | Annual | Gulfwide | 0.0063 | 5,989 | 38
Sharks | Annual | Gulfwide | 0.0063 | 1,148 | 7
Octopuses | Annual | Gulfwide | 0.0063 | 1,507 | 9
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Tables 24 and 25 list the final 2014 and 2015 non-exempt AFA CV halibut PSC limits for vessels using trawl gear in the GOA, respectively. These halibut PSC limits are reduced from the proposed 2014 and 2015 harvest specifications to incorporate reductions to the trawl sector's halibut PSC limit implemented by Amendment 95, as described earlier.

Table 24—Final 2014 Non-Exempt AFA CV Halibut Prohibited Species Catch (PSC) Limits for Vessels Using Trawl Gear in the GOA
[Values are rounded to nearest metric ton]
Season | Season dates | Target fishery | Ratio of 1995-1997 non-exempt AFA CV retained catch to total retained catch | 2014 PSC Limit | 2014 Non-exempt AFA CV PSC limit
1 | January 20-April 1 | shallow-water | 0.340 | 444 | 151
|  | deep-water | 0.070 | 99 | 7
2 | April 1-July 2 | shallow-water | 0.340 | 99 | 34
|  | deep-water | 0.070 | 296 | 21
3 | July 1-September 1 | shallow-water | 0.340 | 197 | 67
|  | deep-water | 0.070 | 395 | 28
4 | September 1-October 1 | shallow-water | 0.340 | 148 | 50
|  | deep-water | 0.070 | 0 | 0
5 | October 1-December 31 | all targets | 0.205 | 296 | 61

Table 25—Final 2015 Non-Exempt AFA CV Halibut Prohibited Species Catch (PSC) Limits for Vessels Using Trawl Gear in the GOA
[Values are rounded to nearest metric ton]
Season | Season dates | Target fishery | Ratio of 1995-1997 non-exempt AFA CV retained catch to total retained catch | 2015 PSC limit | 2015 non-exempt AFA CV PSC limit
1 | January 20-April 1 | shallow-water | 0.340 | 396 | 135
|  | deep-water | 0.070 | 88 | 6
2 | April 1-July 1 | shallow-water | 0.340 | 88 | 30
|  | deep-water | 0.070 | 264 | 18
3 | July 1-September 1 | shallow-water | 0.340 | 176 | 60
|  | deep-water | 0.070 | 352 | 25
4 | September 1-October 1 | shallow-water | 0.340 | 132 | 45
|  | deep-water | 0.070 | 0 | 0
5 | October 1-December 31 | all targets | 0.205 | 264 | 54

Non-AFA Crab Vessel Groundfish Harvest Limitations

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in each GOA groundfish fishery (except the fixed-gear sablefish fishery). Sideboard limits also apply to catch made using an LLP license derived from the history of a restricted vessel, even if that LLP license is used on another vessel.

The basis for these sideboard limits is described in detail in the final rules implementing the major provisions of the Allocation of Bering Sea and Aleutian Islands King and Tanner Crab Fishery Resources (70 FR 10174, March 2, 2005), Amendment 34 to the Fishery Management Plan for Bering Sea/Aleutian Island King and Tanner Crabs (76 FR 35772, June 20, 2011), and Amendment 83 to the GOA FMP (76 FR 74670, December 1, 2011).

Tables 26 and 27 list the final 2014 and 2015 groundfish sideboard limitations for non-AFA crab vessels. All targeted or incidental catch of sideboard species made by non-AFA crab vessels or associated LLP licenses will be deducted from these sideboard limits.

Table 26—Final 2014 GOA Non-American Fisheries Act Crab Vessel Groundfish Harvest Sideboard Limits
[Values are rounded to the nearest metric ton]
Species | Season/gear | Area/component/gear | Ratio of 1996-2000 non-AFA crab vessel catch to 1996-2000 total harvest | Final 2014 TACs | Final 2014 non-AFA crab vessel sideboard limit
Pollock | A Season January 20-March 10 | Shumagin (610) Chirikof (620) | 0.0098 0.0031 | 4,800 25,924 | 47 80
|  | Kodiak (630) | 0.0002 | 8,680 | 2
| B Season March 10-May 31 | Shumagin (610) Chirikof (620) | 0.0098 0.0031 | 4,799 30,963 | 47 96
|  | Kodiak (630) | 0.0002 | 3,636 | 1
| C Season August 25-October 1 | Shumagin (610) Chirikof (620) | 0.0098 0.0031 | 13,235 12,448 | 130 39
|  | Kodiak (630) | 0.0002 | 13,720 | 3
| D Season October 1-November 1 | Shumagin (610) Chirikof (620) | 0.0098 0.0031 | 13,235 12,448 | 130 39
|  | Kodiak (630) | 0.0002 | 13,720 | 3
| Annual | WYK (640) | 0.0000 | 4,741 | 0
|  | SEO (650) | 0.0000 | 12,625 | 0
Pacific cod | A Season ¹ January 1-June 10 | W Jig W Hook-and-line CV | 0.0000 0.0004 | 13,753 13,753 | 0 6
|  | W Hook-and-line C/P | 0.0018 | 13,753 | 25
|  | W Pot CV | 0.0997 | 13,753 | 1,371
|  | W Pot C/P | 0.0078 | 13,753 | 107
|  | W Trawl CV | 0.0007 | 13,753 | 10
|  | C Jig | 0.0000 | 23,895 | 0
|  | C Hook-and-line CV | 0.0001 | 23,895 | 2
|  | C Hook-and-line C/P | 0.0012 | 23,895 | 29
|  | C Pot CV | 0.0474 | 23,895 | 1,133
|  | C Pot C/P | 0.0136 | 23,895 | 325
|  | C Trawl CV | 0.0012 | 23,895 | 29
| B Season ² | W Jig | 0.0000 | 9,169 | 0
| Jig Gear: June 10-December 31 | W Hook-and-line CV W Hook-and-line C/P | 0.0004 0.0001 | 9,169 9,169 | 4 17
| All other gears: September 1-December 31 | W Pot CV W Pot C/P W Trawl CV | 0.0997 0.0078 0.0007 | 9,1699,169 9,169 | 914 72 6
|  | C Jig | 0.0000 | 15,930 | 0
|  | C Hook-and-line CV | 0.0001 | 15,930 | 2
|  | C Hook-and-line C/P | 0.0012 | 15,930 | 19
|  | C Pot CV | 0.0474 | 15,930 | 755
|  | C Pot C/P | 0.0136 | 15,930 | 217
|  | C Trawl CV | 0.0012 | 15,930 | 19
| Annual | E inshore | 0.0110 | 1,792 | 20
|  | E offshore | 0.0000 | 199 | 0
Sablefish | Annual, trawl gear | W | 0.0000 | 296 | 0
|  | C | 0.0000 | 936 | 0
|  | E | 0.0000 | 221 | 0
Flatfish, shallow-water | Annual | W | 0.0059 | 13,250 | 78
|  | C | 0.0001 | 17,813 | 2
|  | E | 0.0000 | 2,616 | 0
Flatfish, deep-water | Annual | W | 0.0035 | 302 | 1
|  | C | 0.0000 | 3,727 | 0
|  | E | 0.0000 | 9,443 | 0
Rex sole | Annual | W | 0.0000 | 1,270 | 0
|  | C | 0.0000 | 6,231 | 0
|  | E | 0.0000 | 1,840 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 15,400 | 6
|  | E | 0.0000 | 3,696 | 0
Pacific ocean perch | Annual | W | 0.0000 | 2,399 | 0
|  | C | 0.0000 | 12,855 | 0
|  | E | 0.0000 | 4,055 | 0
Northern rockfish | Annual | W | 0.0005 | 1,305 | 1
|  | C | 0.0000 | 4,017 | 0
Shortraker rockfish | Annual | W | 0.0013 | 92 | 0
|  | C | 0.0012 | 397 | 0
|  | E | 0.0009 | 834 | 1
Dusky rockfish | Annual | W | 0.0017 | 317 | 1
|  | C | 0.0000 | 3,584 | 0
|  | E | 0.0000 | 1,585 | 0
Rougheye rockfish | Annual | W | 0.0067 | 82 | 1
|  | C | 0.0047 | 864 | 4
|  | E | 0.0008 | 298 | 0
Demersal shelf rockfish | Annual | SEO | 0.0000 | 274 | 0
Thornyhead rockfish | Annual | W | 0.0047 | 235 | 1
|  | C | 0.0066 | 875 | 6
|  | E | 0.0045 | 731 | 3
Other rockfish | Annual | W | 0.0035 | 0 | 0
|  | C | 0.0033 | 1,031 | 3
|  | E | 0.0000 | 780 | 0
Atka mackerel | Annual | Gulfwide | 0.0000 | 2,000 | 0
Big skate | Annual | W | 0.0392 | 589 | 23
|  | C | 0.0159 | 1,532 | 24
|  | E | 0.0000 | 1,641 | 0
Longnose skate | Annual | W | 0.0392 | 107 | 4
|  | C | 0.0159 | 1,935 | 31
|  | E | 0.0000 | 834 | 0
Other skates | Annual | Gulfwide | 0.0176 | 1,989 | 35
Sculpins | Annual | Gulfwide | 0.0176 | 5,569 | 98
Sharks | Annual | Gulfwide | 0.0176 | 5,989 | 105
Squids | Annual | Gulfwide | 0.0176 | 1,148 | 20
Octopuses | Annual | Gulfwide | 0.0176 | 1,507 | 27
¹ The Pacific cod A season for trawl gear does not open until January 20.
² The Pacific cod B season for trawl gear closes November 1.

Table 27—Final 2015 GOA Non-American Fisheries Act Crab Vessel Groundfish Harvest Sideboard Limits
[Values are rounded to the nearest metric ton]
Species | Season/gear | Area/component/gear | Ratio of 1996-2000 non-AFA crab vessel catch to 1996-2000 total harvest | Final 2015 TACs | Final 2015 non-AFA crab vessel sideboard limit
Pollock | A Season January 20—March 10 | Shumagin (610) Chirikof (620) | 0.0098 0.0031 | 5,357 28,932 | 52 90
|  | Kodiak (630) | 0.0002 | 9,687 | 2
| B Season March 10-May 31 | Shumagin (610) | 0.0098 | 5,356 | 52
|  | Chirikof (620) | 0.0031 | 34,555 | 107
|  | Kodiak (630) | 0.0002 | 4,059 | 1
| C Season August 25-October 1 | Shumagin (610) Chirikof (620) | 0.0098 0.0031 | 14,771 13,892 | 145 43
|  | Kodiak (630) | 0.0002 | 15,311 | 3
| D Season October 1-November 1 | Shumagin (610) Chirikof (620) | 0.0098 0.0031 | 14,771 13,892 | 145 43
|  | Kodiak (630) | 0.0002 | 15,311 | 3
| Annual | WYK (640) | 0.0000 | 5,291 | 0
|  | SEO (650) | 0.0000 | 12,625 | 0
Pacific cod | A Season ¹ January 1-June 10 | W Jig W Hook-and-Line CV | 0.0000 0.0000 | 13,069 13,069 | 0 5
|  | W Hook-and-line C/P | 0.0018 | 13,069 | 24
|  | W Pot CV | 0.0997 | 13,069 | 1,303
|  | W Pot C/P | 0.0078 | 13,069 | 102
|  | W Trawl CV | 0.0007 | 13,069 | 9
|  | C Jig | 0.0000 | 22,707 | 0
|  | C Hook-and-line CV | 0.0001 | 22,707 | 2
|  | C Hook-and-line C/P | 0.0012 | 22,707 | 27
|  | C Pot CV | 0.0474 | 22,707 | 1,076
|  | C Pot C/P | 0.0136 | 22,707 | 309
|  | C Trawl CV | 0.0012 | 22,707 | 27
| B Season ² | W Jig | 0.0000 | 8,713 | 0
|  | W Hook-and-line CV | 0.0004 | 8,713 | 3
| Jig Gear: June 10-December 31 | W Hook-and-line C/P W Pot CV | 0.0018 0.0997 | 8,713 8,713 | 16 869
| All other gears: September 1-December 31 | W Pot C/P W Trawl CV | 0.0078 0.0007 | 8,713 8,713 | 68 6
|  | C Jig | 0.0000 | 15,138 | 0
|  | C Hook-and-line CV | 0.0001 | 15,138 | 2
|  | C Hook-and-line C/P | 0.0012 | 15,138 | 18
|  | C Pot CV | 0.0474 | 15,138 | 718
|  | C Pot C/P | 0.0136 | 15,138 | 206
|  | C Trawl CV | 0.0012 | 15,138 | 18
| Annual | E inshore | 0.0110 | 1,703 | 19
|  | E offshore | 0.0000 | 189 | 0
Sablefish | Annual, trawl gear | W | 0.0000 | 268 | 0
|  | C | 0.0000 | 846 | 0
|  | E | 0.0000 | 199 | 0
Flatfish, shallow-water | Annual | W | 0.0059 | 13,250 | 78
|  | C | 0.0001 | 16,372 | 2
|  | E | 0.0000 | 2,405 | 0
Flatfish, deep-water | Annual | W | 0.0035 | 300 | 1
|  | C | 0.0000 | 3,680 | 0
|  | E | 0.0000 | 9,323 | 0
Rex sole | Annual | W | 0.0000 | 1,245 | 0
|  | C | 0.0000 | 6,106 | 0
|  | E | 0.0000 | 1,804 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 15,400 | 6
|  | E | 0.0000 | 3,676 | 0
Pacific ocean perch | Annual | W | 0.0000 | 2,456 | 0
|  | C | 0.0000 | 13,158 | 0
|  | E | 0.0000 | 4,150 | 0
Northern rockfish | Annual | W | 0.0005 | 1,229 | 1
|  | C | 0.0000 | 3,781 | 0
Shortraker rockfish | Annual | W | 0.0013 | 92 | 0
|  | C | 0.0012 | 397 | 0
|  | E | 0.0009 | 834 | 1
Dusky rockfish | Annual | W | 0.0017 | 295 | 1
|  | C | 0.0000 | 3,318 | 0
|  | E | 0.0000 | 1,468 | 0
Rougheye rockfish | Annual | W | 0.0067 | 83 | 1
|  | C | 0.0047 | 877 | 4
|  | E | 0.0008 | 302 | 0
Demersal shelf rockfish | Annual | SEO | 0.0000 | 274 | 0
Thornyhead rockfish | Annual | W | 0.0047 | 235 | 1
|  | C | 0.0066 | 875 | 6
|  | E | 0.0045 | 731 | 3
Other rockfish | Annual | W | 0.0035 | 0 | 0
|  | C | 0.0033 | 1,031 | 3
|  | E | 0.0000 | 780 | 0
Atka mackerel | Annual | Gulfwide | 0.0000 | 2,000 | 0
Big skate | Annual | W | 0.0392 | 589 | 23
|  | C | 0.0159 | 1,532 | 24
|  | E | 0.0000 | 1,641 | 0
Longnose skate | Annual | W | 0.0392 | 107 | 4
|  | C | 0.0159 | 1,935 | 31
|  | E | 0.0000 | 834 | 0
Other skates | Annual | Gulfwide | 0.0176 | 1,989 | 35
Sculpins | Annual | Gulfwide | 0.0176 | 5,569 | 98
Sharks | Annual | Gulfwide | 0.0176 | 5,989 | 105
Squids | Annual | Gulfwide | 0.0176 | 1,148 | 20
Octopuses | Annual | Gulfwide | 0.0176 | 1,507 | 27
¹ The Pacific cod A season for trawl gear does not open until January 20.
² The Pacific cod B season for trawl gear closes November 1.

Rockfish Program Groundfish Sideboard and Halibut PSC Limitations

The Rockfish Program establishes three classes of sideboard provisions: CV groundfish sideboard restrictions, C/P rockfish sideboard restrictions, and C/P opt-out vessel sideboard restrictions. These sideboards are intended to limit the ability of rockfish harvesters to expand into other fisheries.

CVs participating in the Rockfish Program may not participate in directed fishing for dusky rockfish, Pacific ocean perch, and northern rockfish in the West Yakutat district and Western GOA from July 1 through July 31. Also, CVs may not participate in directed fishing for arrowtooth flounder, deep-water flatfish, and rex sole in the GOA from July 1 through July 31 (§ 679.82(d)).

Catcher/processors participating in Rockfish Program cooperatives are restricted by rockfish and halibut PSC limits. These C/Ps are prohibited from directed fishing for dusky rockfish, Pacific ocean perch, and northern rockfish in the West Yakutat district and Western GOA from July 1 through July 31. Holders of C/P-designated LLP licenses that opt-out of participating in a Rockfish Program cooperative will be able to access that portion of each sideboard limit that is not assigned to rockfish cooperatives. Tables 28 and 29 list the final 2014 and 2015 Rockfish Program C/P sideboard limits in the West Yakutat district and the Western GOA. Due to confidentiality requirements associated with fisheries data, the sideboard limits for the West Yakutat district are not displayed.

Table 28—Final 2014 Rockfish Program Harvest Limits by Sector for West Yakutat District and Western GOA by the Catcher/Processor Sector
[Values are rounded to the nearest metric ton]
Area | Fishery | C/P sector (% of TAC) | Final 2014 TACs | Final 2014 C/P limit
West Yakutat District | Dusky rockfish | Confidential ¹ | 1,384 | Confidential.¹
| Pacific ocean perch | Confidential ¹ | 1,931 | Confidential.¹
Western GOA | Dusky rockfish | 72.3 | 317 | 229.
| Pacific ocean perch | 50.6 | 2,399 | 1,214.
| Northern rockfish | 74.3 | 1,305 | 970.
¹ Not released due to confidentiality requirements associated with fish ticket data, as established by NMFS and the State of Alaska.

Table 29—Final 2015 Rockfish Program Harvest Limits by Sector for West Yakutat District and Western GOA by the Catcher/Processor Sector
[Values are rounded to the nearest metric ton]
Area | Fishery | C/P sector (% of TAC) | Final 2015 TACs | Final 2015 C/P limit
West Yakutat District | Dusky rockfish | Confidential ¹ | 1,277 | Confidential.¹
| Pacific ocean perch | Confidential ¹ | 1,976 | Confidential.¹
Western GOA | Dusky rockfish | 72.3 | 295 | 213.
| Pacific ocean perch | 50.6 | 2,456 | 1,243.
| Northern rockfish | 74.3 | 1,229 | 913.
¹ Not released due to confidentiality requirements associated with fish ticket data, as established by NMFS and the State of Alaska.

Under the Rockfish Program, the C/P sector is subject to halibut PSC sideboard limits for the trawl deep-water and shallow-water species fisheries from July 1 through July 31. No halibut PSC sideboard limits apply to the CV sector, as vessels participating in cooperatives receive a portion of the annual halibut PSC limit. C/Ps that opt-out of the Rockfish Program would be able to access that portion of the deep-water and shallow-water halibut PSC sideboard limit not assigned to C/P rockfish cooperatives. The sideboard provisions for C/Ps that elect to opt-out of participating in a rockfish cooperative are described in § 679.82(c), (e), and (f). Sideboards are linked to the catch history of specific vessels that may choose to opt-out. After March 1, NMFS will determine which C/Ps have opted-out of the Rockfish Program in 2014, and will know the ratios and amounts used to calculate opt-out sideboard ratios. NMFS will then calculate any applicable opt-out sideboards and post these allocations on the Alaska Region Web site at http://alaskafisheries.noaa.gov/sustainablefisheries/goarat/default.htm). Tables 30 and 31 list the 2014 and 2015 Rockfish Program halibut PSC limits for the catcher/processor sector. These halibut PSC limits are reduced from the proposed 2014 and 2015 harvest specifications to incorporate reductions implemented under Amendment 95, as described earlier.

Table 30—Final 2014 Rockfish Program Halibut Mortality Limits for the Catcher/Processor Sector
[Values are rounded to the nearest metric ton]
Sector | Shallow-water species fishery halibut PSC sideboard ratio (percent) | Deep-water species fishery halibut PSC sideboard ratio (percent) | 2014 halibut mortality limit (mt) | Annual shallow-water species fishery halibut PSC sideboard limit (mt) | Annual deep-water species fishery halibut PSC sideboard limit (mt)
Catcher/processor | 0.10 | 2.50 | 1,848 | 2 | 46

Table 31—Final 2015 Rockfish Program Halibut Mortality Limits for the Catcher/Processor Sector
[Values are rounded to the nearest metric ton]
Sector | Shallow-water species fishery halibut PSC sideboard ratio (percent) | Deep-water species fishery halibut PSC sideboard ratio (percent) | 2015 halibut mortality limit (mt) | Annual shallow-water species fishery halibut PSC sideboard limit (mt) | Annual deep-water species fishery halibut PSC sideboard limit (mt)
Catcher/processor | 0.10 | 2.50 | 1,759 | 2 | 44

Amendment 80 Program Groundfish and PSC Sideboard Limits

Amendment 80 to the Fishery Management Plan for Groundfish of the Bering Sea and Aleutian Islands Management Area (Amendment 80 Program) established a limited access privilege program for the non-AFA trawl C/P sector. The Amendment 80 Program established groundfish and halibut PSC catch limits for Amendment 80 Program participants to limit the ability of participants eligible for the Amendment 80 Program to expand their harvest efforts in the GOA.

Section 679.92 establishes groundfish harvesting sideboard limits on all Amendment 80 program vessels, other than the F/V GOLDEN FLEECE, to amounts no greater than the limits listed in Table 37 to 50 CFR part 679. Under regulations at § 679.92(d), the F/V GOLDEN FLEECE is prohibited from directed fishing for pollock, Pacific cod, Pacific ocean perch, dusky rockfish, and northern rockfish in the GOA.

Groundfish sideboard limits for Amendment 80 Program vessels operating in the GOA are based on their average aggregate harvests from 1998 through 2004. Tables 32 and 33 list the final 2014 and 2015 sideboard limits for Amendment 80 Program vessels. These limits are based on the final 2014 and 2015 TACs established by this action, and thus may differ proportionately from the sideboard limits in the proposed harvest specifications. NMFS will deduct all targeted or incidental catch of sideboard species made by Amendment 80 Program vessels from the sideboard limits in Tables 32 and 33.

Table 32—Final 2014 GOA Groundfish Sideboard Limits for Amendment 80 Program Vessels
[Values are rounded to nearest metric ton]
Species | Apportionments and allocations by season | Area | Ratio of amendment 80 sector vessels 1998-2004 catch to TAC | 2014 TAC (mt) | 2014 amendment 80 vessel sideboards (mt)
Pollock | A Season January 20-February 25 | Shumagin (610) Chirikof (620) | 0.003 0.002 | 4,800 25,924 | 14 52
|  | Kodiak (630) | 0.002 | 8,680 | 17
| B Season March 10-May 31 | Shumagin (610) Chirikof (620) | 0.003 0.002 | 4,799 30,963 | 14 62
|  | Kodiak (630) | 0.002 | 3,636 | 7
| C Season August 25-September 15 | Shumagin (610) Chirikof (620) | 0.003 0.002 | 13,235 12,448 | 40 25
|  | Kodiak (630) | 0.002 | 13,720 | 27
| D Season October 1-November 1 | Shumagin (610) Chirikof (620) | 0.003 0.002 | 13,235 12,448 | 40 25
|  | Kodiak (630) | 0.002 | 13,720 | 27
| Annual | WYK (640) | 0.002 | 4,741 | 9
Pacific cod | A Season ¹ January 1-June 10 | W C | 0.020 0.044 | 13,753 23,895 | 275 1,051
| B Season ² September 1-December 31 | W C | 0.020 0.044 | 9,169 15,930 | 183 701
| Annual | WYK | 0.034 | 1,991 | 68
Pacific ocean perch | Annual | W | 0.994 | 2,399 | 2,385
|  | WYK | 0.961 | 1,931 | 1,856
Northern rockfish | Annual | W | 1.000 | 1,305 | 1,305
Dusky rockfish | Annual | W | 0.764 | 317 | 242
|  | WYK | 0.896 | 1,384 | 1,240
¹ The Pacific cod A season for trawl gear does not open until January 20.
² The Pacific cod B season for trawl gear closes November 1.

Table 33—Final 2015 GOA Groundfish Sideboard Limits for Amendment 80 Program Vessels
[Values are rounded to nearest metric ton]
Species | Apportionments and allocations by season | Area | Ratio of amendment 80 sector vessels 1998-2004 catch to TAC | 2015 TAC (mt) | 2015 amendment 80 vessel sideboards (mt)
Pollock | A Season January 20-February 25 | Shumagin (610) Chirikof (620) | 0.003 0.002 | 5,357 28,932 | 16 58
|  | Kodiak (630) | 0.002 | 9,687 | 19
| B Season March 10-May 31 | Shumagin (610) Chirikof (620) | 0.003 0.002 | 5,356 34,554 | 16 69
|  | Kodiak (630) | 0.002 | 4,059 | 8
| C Season August 25-September 15 | Shumagin (610) Chirikof (620) | 0.003 0.002 | 14,771 13,892 | 44 28
|  | Kodiak (630) | 0.002 | 15,311 | 31
| D Season October 1-November 1 | Shumagin (610) Chirikof (620) | 0.003 0.002 | 14,771 13,892 | 44 28
|  | Kodiak (630) | 0.002 | 15,311 | 31
| Annual | WYK (640) | 0.002 | 5,291 | 11
Pacific cod | A Season ¹ January 1-June 10 | W C | 0.020 0.044 | 13,069 22,707 | 261 999
| B Season ² September 1-December 31 | W C | 0.020 0.044 | 8,713 15,138 | 174 666
| Annual | WYK | 0.034 | 1,892 | 64
Pacific ocean perch | Annual | W | 0.994 | 2,456 | 2,441
|  | WYK | 0.961 | 1,976 | 1,899
Northern rockfish | Annual | W | 1.000 | 1,229 | 1,229
Dusky rockfish | Annual | W | 0.764 | 295 | 225
|  | WYK | 0.896 | 1,277 | 1,144
¹ The Pacific cod A season for trawl gear does not open until January 20.
² The Pacific cod B season for trawl gear closes November 1.

The PSC sideboard limits for Amendment 80 Program vessels in the GOA are based on the historic use of halibut PSC by Amendment 80 Program vessels in each PSC target category from 1998 through 2004. These values are slightly lower than the average historic use to accommodate two factors: Allocation of halibut PSC cooperative quota under the Central GOA Rockfish Program and the exemption of the F/V GOLDEN FLEECE from this restriction (§ 679.92(b)(2)). Tables 34 and 35 list the final 2014 and 2015 halibut PSC limits for Amendment 80 Program vessels, as contained in Table 38 to 50 CFR part 679. These halibut PSC limits are reduced from the proposed 2014 and 2015 harvest specifications to incorporate the trawl sector's halibut PSC limit reductions, as described earlier.

Table 34—Final 2014 Halibut PSC Limits for Amendment 80 Program Vessels in the GOA
[Values are rounded to nearest metric ton]
Season | Season dates | Target fishery | Historic amendment 80 use of the annual halibut PSC limit catch (ratio) | 2014 annual PSC limit (mt) | 2014 amendment 80 vessel PSC limit
1 | January 20-April 1 | shallow-water | 0.0048 | 1,848 | 9
|  | deep-water | 0.0115 | 1,848 | 21
2 | April 1-July 1 | shallow-water | 0.0189 | 1,848 | 35
|  | deep-water | 0.1072 | 1,848 | 198
3 | July 1-September 1 | shallow-water | 0.0146 | 1,848 | 27
|  | deep-water | 0.0521 | 1,848 | 96
4 | September 1-October 1 | shallow-water | 0.0074 | 1,848 | 14
|  | deep-water | 0.0014 | 1,848 | 3
5 | October 1-December 31 | shallow-water | 0.0227 | 1,848 | 42
|  | deep-water | 0.0371 | 1,848 | 69

Table 35—Final 2015 Halibut PSC Limits for Amendment 80 Program Vessels in the GOA
[Values are rounded to nearest metric ton]
Season | Season dates | Target fishery | Historic amendment 80 use of the annual halibut PSC limit catch (ratio) | 2014 annual PSC limit (mt) | 2014 amendment 80 vessel PSC limit
1 | January 20-April 1 | shallow-water | 0.0048 | 1,759 | 8
|  | deep-water | 0.0115 | 1,759 | 20
2 | April 1-July 1 | shallow-water | 0.0189 | 1,759 | 33
|  | deep-water | 0.1072 | 1,759 | 189
3 | July 1-September 1 | shallow-water | 0.0146 | 1,759 | 26
|  | deep-water | 0.0521 | 1,759 | 92
4 | September 1-October 1 | shallow-water | 0.0074 | 1,759 | 13
|  | deep-water | 0.0014 | 1,759 | 2
5 | October 1-December 31 | shallow-water | 0.0227 | 1,759 | 40
|  | deep-water | 0.0371 | 1,759 | 65

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component or sector allocation will be reached, the Regional Administrator may establish a directed fishing allowance (DFA) for that species or species group. If the Regional Administrator establishes a DFA and that allowance is or will be reached before the end of the fishing year, NMFS will prohibit directed fishing for that species or species group in the specified GOA regulatory area or district (§ 679.20(d)(1)(iii)).

The Regional Administrator has determined that the TACs for the species listed in Table 36 are necessary to account for the incidental catch of these species in other anticipated groundfish fisheries for the 2014 and 2015 fishing years.

Table 36—2014 and 2015 Directed Fishing Closures in the GOA
[Amounts for incidental catch in other directed fisheries are in metric tons]
Target | Area/component/gear | Incidental catch amount
Pollock | all/offshore | ¹not applicable
Sablefish ² | all/trawl | 1,453 (2014) 1,313 (2015)
Pacific cod | Western, catcher/processor, trawl | 536 (2014) 510 (2015)
Shortraker rockfish ² | all | 1,323
Other rockfish | all | 1,811
Rougheye rockfish ² | all | 1,244 (2014) 1,262 (2015)
Thornyhead rockfish | all | 1,841
Atka mackerel | all | 2,000
Big skate | all | 3,762
Longnose skate | all | 2,876
Other skates | all | 1,989
Sharks | all | 5,989
Squids | all | 1,148
Octopuses | all | 1,507
¹ Pollock is closed to directed fishing in the GOA by the offshore component under § 679.20(a)(6)(i).
² Closures not applicable to participants in cooperatives conducted under the Central GOA Rockfish Program.

Consequently, in accordance with § 679.20(d)(1)(i), the Regional Administrator establishes the DFA for the species or species groups listed in Table 36 as zero mt. Therefore, in accordance with § 679.20(d)(1)(iii), NMFS is prohibiting directed fishing for those species, areas, gear types, and components in the GOA listed in Table 36. These closures will remain in effect through 2400 hrs, A.l.t., December 31, 2015.

Section 679.64(b)(5) provides for management of AFA CV groundfish harvest limits and PSC bycatch limits using directed fishing closures and PSC closures according to procedures set out at §§ 679.20(d)(1)(iv), 679.21(d)(8), and 679.21(e)(3)(v). The Regional Administrator has determined that, in addition to the closures listed above, many of the non-exempt AFA CV sideboard limits listed in Tables 22 and 23 are necessary as incidental catch to support other anticipated groundfish fisheries for the 2014 and 2015 fishing years. In accordance with § 679.20(d)(1)(iv), the Regional Administrator sets the DFAs for the species and species groups in Table 37 at zero mt. Therefore, in accordance with § 679.20(d)(1)(iii), NMFS is prohibiting directed fishing by non-exempt AFA CVs in the GOA for the species and specified areas listed in Table 37. These closures will remain in effect through 2400 hrs, A.l.t., December 31, 2015.

Table 37—2014 and 2015 Non-Exempt AFA CV Sideboard Directed Fishing Closures for All Gear Types in the GOA
[Amounts for incidental catch in other directed fisheries are in metric tons]
Species | Regulatory area/district | Incidental catch amount
Pacific cod | Eastern | 14 (inshore) and 2 (offshore) in 2014.
|  | 13 (inshore) and 1 (offshore) in 2015.
Shallow-water flatfish | Eastern | 33 in 2014, 30 in 2015.
Deep-water flatfish | Western | 0.
Rex sole | Eastern and Western | 5 and 1.
Arrowtooth flounder | Eastern and Western | 3 and 30.
Flathead sole | Eastern and Western | 3 and 31.
Pacific ocean perch | Western | 6.
Northern rockfish | Western | 0.
Dusky rockfish | Entire GOA | 11 in 2014, 10 in 2015.
Demersal shelf rockfish | SEO District | 1.
Sculpins | Entire GOA | 35.
Squids | Entire GOA | 7.

Section 680.22 provides for the management of non-AFA crab vessel sideboards using directed fishing closures in accordance with § 680.22(e)(2) and (3). The Regional Administrator has determined that the non-AFA crab vessel sideboards listed in Tables 26 and 27 are insufficient to support a directed fishery and has set the sideboard DFA at zero mt, with the exception of Pacific cod pot CV sector apportionments in the Western and Central Regulatory Areas. Therefore, NMFS is prohibiting directed fishing by non-AFA crab vessels in the GOA for all species and species groups listed in Tables 26 and 27, with the exception of the Pacific cod pot CV sector apportionments in the Western and Central Regulatory Areas.

Closures implemented under the 2013 and 2014 GOA harvest specifications for groundfish (78 FR 13162, February 26, 2013) remain effective under authority of these final 2014 and 2015 harvest specifications, and are posted at the following Web site: http://www.alaskafisheries.noaa.gov/cm/info_bulletins/. While these closures are in effect, the maximum retainable amounts at § 679.20(e) and (f) apply at any time during a fishing trip. These closures to directed fishing are in addition to closures and prohibitions found in regulations at 50 CFR part 679. NMFS may implement other closures during the 2014 and 2015 fishing years as necessary for effective conservation and management.

Comments and Response

NMFS did not receive any comments in response to the proposed 2014 and 2015 harvest specifications (78 FR 74079, December 10, 2013).

Classification

NMFS has determined that these final harvest specifications are consistent with the FMP and with the Magnuson-Stevens Act and other applicable laws.

This action is authorized under 50 CFR 679.20 and is exempt from review under

Executive Orders 12866 and 13563

NMFS prepared an EIS for this action (see ADDRESSES) and made it available to the public on January 12, 2007 (72 FR 1512). On February 13, 2007, NMFS issued the Record of Decision (ROD) for the EIS. In January 2014, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The preferred alternative is a harvest strategy in which TACs are set at a level that falls within the range of ABCs recommended by the Council's SSC; the sum of the TACs must achieve the OY specified in the FMP. The SIR evaluates the need to prepare a Supplemental EIS (SEIS) for the 2014 and 2015 groundfish harvest specifications.

An SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2014 and 2015 harvest specifications, which were set according to the preferred harvest strategy in the EIS, do not constitute a change in the action; and (2) there are no significant new circumstances or information relevant to environmental concerns and bearing on the action or its impacts. Additionally, the 2014 and 2015 harvest specifications will result in environmental impacts within the scope of those analyzed and disclosed in the EIS. Therefore, supplemental National Environmental Policy Act documentation is not necessary to implement the 2014 and 2015 harvest specifications.

Pursuant to section 604 of the Regulatory Flexibility Act, 5 U.S.C. 601 et seq., a FRFA was prepared for this action. The FRFA incorporates information contained in the Initial Regulatory Flexibility Analysis (IRFA), and includes a summary of the significant issues raised by public comments in response to the IRFA, NMFS' responses to those comments, and a summary of the analyses completed to support the action.

A copy of the FRFA prepared for this final rule is available from NMFS (see ADDRESSES). A description of this action, its purpose, and its legal basis are contained at the beginning of the preamble to this final rule and are not repeated here.

NMFS published the proposed rule on December 10, 2013 (78 FR 74079). NMFS prepared an Initial Regulatory Flexibility Analysis (IRFA) to accompany this action, and included a summary in the proposed rule. The comment period closed on January 9, 2014. No comments were received on the IRFA or the economic impacts of the rule more generally.

The entities directly regulated by this action are those that receive allocations of groundfish in the EEZ of the GOA, and in parallel fisheries within State of Alaska waters, during the annual harvest specifications process. These directly regulated entities include the groundfish CVs and C/Ps active in these areas. Direct allocations of groundfish are also made to Central GOA Rockfish Program cooperatives. These entities are, therefore, also considered to be directly regulated.

In 2012, there were 1,424 individual catcher vessels with gross revenues meeting small entity criteria. These criteria, established by the Small Business Administration, include a business involved in finfish or shellfish harvesting is a small business if it is independently owned and operated and not dominant in its field of operation (including its affiliates), and if it has combined annual receipts not in excess of $19.0 million for all its affiliated operations worldwide in the case of a finfish business, and $5.0 million in the case of a shellfish business. Some of these vessels are members of AFA inshore pollock cooperatives, of GOA rockfish cooperatives, or of BSAI crab rationalization cooperatives and, therefore, under the Regulatory Flexibility Act (RFA) it is the aggregate gross receipts of all participating members of the cooperative that must meet the threshold. Vessels that participate in these cooperatives are considered to be large entities within the meaning of the RFA. After accounting for membership in these cooperatives, there are an estimated 1,378 small catcher vessel entities remaining in the GOA groundfish sector. Additionally, in 2012 there were 32 catcher/processors meeting small entity criteria. After taking account of relevant cooperative affiliations, there were seven. The average gross revenue for these seven small catcher/processor entities was $1.6 million.

This action does not modify recordkeeping or reporting requirements.

NMFS considered other, alternative harvest strategies when choosing the preferred harvest strategy (Alternative 2) in December 2006. These included the following:

• Alternative 1: Set TACs to produce fishing mortality rates, F, that are equal to maxFABC, unless the sum of the TACs is constrained by the OY established in the FMPs. This is equivalent to setting TACs to produce harvest levels equal to the maximum permissible ABCs, as constrained by OY. The term “maxFABC” refers to the maximum permissible value of FABC under Amendment 56 to the groundfish FMPs. Historically, the TAC has been set at or below the ABC, therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TACs would be set to produce harvest levels equal to the most recent 5-year average actual fishing mortality rates. For stocks with insufficient scientific information, TACs would be set equal to the most recent 5-year average actual catch. This alternative recognizes that for some stocks, catches may fall well below ABCs, and recent average F may provide a better indicator of actual F than FABC does.

• Alternative 4: (1) Set TACs for rockfish species in Tier 3 at F75%. Set TACs for rockfish species in Tier 5 at F=0.5M. Set spatially explicit TACs for shortraker and rougheye rockfish in the GOA. (2) Taking the rockfish TACs as calculated above, reduce all other TACs by a proportion that does not vary across species, so that the sum of all TACs, including rockfish TACs, is equal to the lower bound of the area OY (116,000 mt in the GOA). This alternative sets conservative and spatially explicit TACs for rockfish species that are long-lived and late to mature and sets conservative TACs for the other groundfish species.

• Alternative 5: (No Action) Set TACs at zero.

These four alternatives do not meet the objectives of this action although they have a smaller adverse economic impact on small entities than the preferred alternative. The Council rejected these alternatives as harvest strategies in 2006, and the Secretary did so in 2007.

Alternative 1 selected harvest rates that will allow fishermen to harvest stocks at the level of ABCs, unless total harvests are constrained by the upper bound of the GOA OY of 800,000 metric tons. The sums of ABCs in 2014 and 2015 are 640,675 mt and 644,165 mt, respectively. The sums of the TACs in 2014 and 2015 are 499,274 mt and 511,599 mt, respectively. Thus, although the sum of ABCs in each year is less than 800,000 metric tons, the sums of the TACs in each year are less than the sums of the ABCs.

In most cases, the Council has set TACs equal to ABCs. The divergence between aggregate TACs and aggregate ABCs reflects a variety of special species- and fishery-specific circumstances:

• Pacific cod TACs are set equal to 70 percent in the Western GOA and 75 percent in the Central GOA of the Pacific cod ABCs in each year to account for the guideline harvest levels (GHL) set by the State of Alaska for its GHL Pacific cod fisheries (30 and 25 percent, respectively, of the Western and Central GOA ABCs). Thus, the difference between the Federal TACs and ABCs does not actually reflect a Pacific cod harvest below the Pacific cod ABC, as the balance is available for the State's cod GHL fisheries.

• Shallow-water flatfish and flathead sole TACs are set below ABCs in the Western and Central GOA regulatory areas. Arrowtooth flounder TACs are set below ABC in all GOA regulatory areas. Catches of these flatfish species rarely, if ever, approach the proposed ABCs or TACs. Important trawl fisheries in the GOA take halibut PSC, and are constrained by limits on the allowable halibut PSC mortality. These limits routinely force the closure of trawl fisheries before they have harvested the available groundfish ABC. Thus, actual harvests of groundfish in the GOA routinely fall short of some ABCs and TACs. Markets can also constrain harvests below the TACs, as has been the case with arrowtooth flounder, in the past. These TACs are set to allow for increased harvest opportunities for these targets while conserving the halibut PSC limit for use in other, more fully utilized, fisheries.

• The other rockfish TAC is set below the ABC in the Southeast Outside district based on several factors. In addition to conservation concerns for the rockfish species in this group, there is a regulatory prohibition against using trawl gear east of 140° W. longitude. Because most species of other rockfish are caught exclusively with trawl gear, the catch of such species with other gear types, such as hook-and-line, is low. The commercial catch of other rockfish in the Eastern regulatory area, which includes the West Yakutat and Southeast Outside districts, has ranged from approximately 70 mt to 248 mt per year over the last decade.

• The GOA-wide Atka mackerel TAC is set below the ABC. The estimates of survey biomass continue to be unreliable in the GOA. Therefore, the Council recommended and NMFS agrees that the Atka mackerel TAC in the GOA be set at an amount to support incidental catch in other directed fisheries.

Alternative 3 selects harvest rates based on the most recent 5 years of harvest rates (for species in Tiers 1 through 3) or for the most recent 5 years of harvests (for species in Tiers 4 through 6). This alternative is inconsistent with the objectives of this action, because it does not take account of the most recent biological information for this fishery.

Alternative 4 would lead to significantly lower harvests of all species to reduce TACs from the upper end of the OY range in the GOA to its lower end of 116,000 mt. Overall, this would reduce 2014 TACs by about 77 percent. This would lead to significant reductions in harvests of species by small entities. While production declines in the GOA would undoubtedly be associated with price increases in the GOA, these increases would still be constrained by the availability of substitutes, and are very unlikely to offset revenue declines from smaller production. Thus, this action would have a detrimental economic impact on small entities.

Alternative 5, which sets all harvests equal to zero, may also address conservation issues, but would have a significant adverse economic impact on small entities.

Impacts on marine mammals resulting from fishing activities conducted under this rule are discussed in the EIS and SIR (see ADDRESSES).

Pursuant to 5 U.S.C. 553(d)(3), the Assistant Administrator for Fisheries, NOAA, finds good cause to waive the 30-day delay in effectiveness for this rule because delaying this rule would be contrary to the public interest. The Plan Team review occurred in November 2013, and Council consideration and recommendations occurred in December 2013. Accordingly, NMFS' review could not begin until January 2014. For all fisheries not currently closed because the TACs established under the final 2013 and 2014 harvest specifications (78 FR 13162, February 26, 2013) were not reached, it is possible that they would be closed prior to the expiration of a 30-day delayed effectiveness period, because their TACs could be reached within that period. If implemented immediately, this rule would allow these fisheries to continue because the new TACs implemented by this rule are higher than the ones under which they are currently fishing.

Certain fisheries, such as those for pollock and Pacific cod, are intensive, fast-paced fisheries. Other fisheries, such as those for sablefish, flatfish, rockfish, Atka mackerel, skates, sculpins, sharks, squids, and octopuses, are critical as directed fisheries and as incidental catch in other fisheries. U.S. fishing vessels have demonstrated the capacity to catch the TAC allocations in many of these fisheries. If this rule allowed for a 30-day delay in effectiveness and if a TAC were reached during those 30 days, NMFS would close directed fishing or prohibit retention for the applicable species. Any delay in allocating the final TACs in these fisheries would cause confusion to the industry and potential economic harm through unnecessary discards, thus undermining the intent of the rule. Waiving the 30-day delay allows NMFS to prevent economic loss to fishermen that could otherwise occur should the 2014 TACs be reached. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and causing them to close at an accelerated pace.

In fisheries subject to declining sideboard limits, a failure to implement the updated sideboard limits before initial season's end could deny the intended economic protection to the non-sideboarded sectors. Conversely, in fisheries with increasing sideboard limits, economic benefit could be denied to the sideboard limited sectors.

If the final harvest specifications are not effective by March 8, 2014, which is the start of the 2014 Pacific halibut season as specified by the IPHC, the hook-and-line sablefish fishery will not begin concurrently with the Pacific halibut IFQ season. This would result in confusion for the industry and economic harm from unnecessary discard of sablefish that are caught along with Pacific halibut, as both hook-and-line sablefish and Pacific halibut are managed under the same IFQ program. Immediate effectiveness of the final 2014 and 2015 harvest specifications will allow the sablefish IFQ fishery to begin concurrently with the Pacific halibut IFQ season.

In addition, the immediate effectiveness of this action is required to provide consistent management and conservation of fishery resources based on the best available scientific information. This is particularly true for those species that have lower 2014 ABCs and TACs than those established in the 2013 and 2014 harvest specifications (78 FR 13162, February 26, 2013). Immediate effectiveness also would give the fishing industry the earliest possible opportunity to plan and conduct its fishing operations with respect to new information about TACs. Therefore, NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the final 2014 and 2015 harvest specifications and prohibited species bycatch allowances for the groundfish fisheries of the GOA. This action is necessary to establish harvest limits and associated management measures for groundfish during the 2014 and 2015 fishing years, and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L 109-479.

Dated: February 28, 2014.
Paul N. Doremus,
Deputy Assistant Administrator for Operations, National Marine Fisheries Service.

[FR Doc. 2014-04886 Filed 3-5-14; 8:45 am]

BILLING CODE 3510-22-P